DEPARTMENT OF DEFENSE

Department of the Army

Privacy Act of 1974; System of Records

AGENCY: Department of the Army, DoD.

ACTION: Notice to amend systems of records.

SUMMARY: The Department of the Army is proposing to amend 30 systems of records notices in its existing inventory of records systems subject to the Privacy Act of 1974 (5 U.S.C. 552a), as amended. The administrative amendments being made to the notices reflect the Department of the Army's General Order No. 7, whereby the ‘U.S. Total Army Personnel Command of Alexandria, VA.’ and the ‘U.S. Army Reserve Personnel Command of St Louis, MO.’ were inactivated, and replaced with the ‘U.S. Army Human Resources Command’. General Order No. 7 became effective October 2, 2003.

DATES: This proposed action will be effective without further notice on February 4, 2004, unless comments are received which result in a contrary determination.

ADDRESSES: Department of the Army, Freedom of Information/ Privacy Act Office, U.S. Army Records Management and Declassification Agency, Attn: AHRC-PDD-FP, 7798 Cissna Road, Suite 205, Springfield, VA 22153-3166.

FOR FURTHER INFORMATION CONTACT: Ms. Janice Thornton at (703) 806-7137/DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: December 24, 2003.
L.M. Bynum,
Alternate OSD Federal Register Liaison Officer, Department of Defense.

A0001 TAPC-ARI

System name:

Professional Staff Information File (October 18, 1999, 64 FR 56196).

Changes:

System identifier:

Delete entry and replace with ‘A0001 AHRC-ARI’.

* * * * *

Authority for maintenance of the system:

Delete from entry ‘5 U.S.C. 301, Departmental Regulations’.

* * * * *

System manager(s) and address:

Delete ‘ATTN: TAPC-ARI-ASZ’ from entry.

* * * * *

A0001 AHRC-ARI

System name:

Professional Staff Information File.

Privacy Act System location:

Headquarters, U.S. Army Research Institute for the Behavioral and Social Sciences, 5001 Eisenhower Avenue, Alexandria, VA 22333-5600.

Categories of individuals covered by the system:

Department of the Army civilian psychologists, engineers, economists, sociologists, and other professional staff members employed by the Army Research Institute who voluntarily supply information for release and military officers assigned to the Army Research Institute who voluntarily provide information for release.

Categories of records in the system:

Files contain names of individuals and their curricula vitae, including data and information on the qualifications, expertise, experience and interests of the professional staff of the Army Research Institute. Data include name, grade or rank, Institute assignment, education, prior professional experience, professional activities and development, lists of awards and recognition, extra-government professional activities and significant professional publications.

Authority for maintenance of the system:

10 U.S.C. 3013, Secretary of the Army.

Purpose(s):

To establish and maintain a professional staff directory which is used to consider staff members with special expertise for special duty assignments and to produce evidence of professional staff qualifications during Institute peer reviews and similar independent evaluations.

Records are also used as basis for summary statistical reports concerning professional qualifications.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Information is stored on a personal computer.

Retrievability:

Information is retrieved by the surname of professional person. Categorical data is retrieved by keyword.

Safeguards:

Records are accessible only to designated individuals having official need-to-know in the performance of assigned duties.

Retention and disposal:

Information will be maintained during the tenure of the person and deleted upon permanent departure from the Institute.

System manager(s) and address:

Director, U.S. Army Research Institute for the Behavioral and Social Sciences, 5001 Eisenhower Avenue, Alexandria, VA 22333-5600.

Notification procedure:

Individuals seeking to determine whether information about themselves is contained in this system should address written inquiries to the Director, U.S. Army Research Institute for the Behavioral and Social Sciences, 5001 Eisenhower Avenue, Alexandria, VA 22333-5600.

Record access procedures:

Individuals seeking access to information about themselves contained in this system should address written inquiries to the Director, U.S. Army Research Institute for the Behavioral and Social Sciences, 5001 Eisenhower Avenue, Alexandria, VA 22333-5600.

Contesting record procedures:

The Army's rules for accessing records, and for contesting contents and appealing initial agency determinations are contained in Army Regulation 340-21; 32 CFR part 505; or may be obtained from the system manager.

Record source categories:

Individuals employed by or assigned to the Army Research Institute who voluntarily submit requested information.

Exemptions claimed for the system:

None.

A0001b TAPC

System name:

Unit Administrative Military Personnel Records (February 22, 1993, 58 FR 10002).

Changes:

System identifier:

Delete entry and replace with ‘A001b AHRC’.

* * * * *

Authority for maintenance of the system:

Replace ‘5 U.S.C. 301, Departmental Regulations’ with ‘10 U.S.C. 3013, Secretary of the Army.’

* * * * *

System manager(s) and address:

Replace ‘U.S. Total Army Personnel Command” with ‘U.S. Army Human Resources Command’.

* * * * *

A0001b AHRC

System name:

Unit Administrative Military Personnel Records.

System location:

Headquarters, Department of the Army Staff, major commands, field operating agencies, installations and activities performing unit level administration for military personnel, whether active, inactive (reservist MOEDES) and including the National Guard. Official mailing addresses are published as an appendix to the Army's compilation of systems of records notices.

Categories of individuals covered by the system:

Military personnel (And in some instances, their dependents) at the local supervisory level (i.e., battalion PAC/S1, company, platoon/squad, or comparable office size) when the individual's Military Personnel Records Jacket (MPRJ) or other personnel records are maintained elsewhere.

Categories of records in the system:

Records/documents of a temporary nature which are needed in the day-to-day administration/supervision of the individual.

Authority for maintenance of the system:

10 U.S.C. 3013, Secretary of the Army and E.O. 9397 (SSN).

Purpose(s):

To provide supervisors/unit commanders a ready source of information for day-to-day operations and administrative determinations pertaining to assigned/attached personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records, index-cards, microfiche, magnetic tape/disk.

Retrievability:

By individual's surname or Social Security Number.

Safeguards:

Information is stored in locked rooms/buildings with access restricted to individuals whose duties require a need-to-know. Where information exists on word processing disk/diskettes/tapes or in automated media, the administrative, physical, and technical requirements of Army Regulation 380-19, Information Systems Security, are assured to preclude improper use or inadvertent disclosure.

Retention and disposal:

Records are destroyed not later than 1 year after departure of the individual.

System manager(s) and address:

Commander, U.S. Army Human Resources Command, 200 Stovall Street, Alexandria, VA 22332-0400.

Notification procedure:

Individuals seeking to determine whether information about themselves is contained in this system should address written inquiries to their immediate supervisor.

Individual should provide the full name, Social Security Number, and particulars which facilitate locating the record.

Record access procedures:

Individuals seeking access to information about themselves contained in this system should address written inquiries to the custodian of the record at the location to which assigned/attached.

Individual should provide the full name, Social Security Number, and particulars which facilitate locating the record.

Contesting record procedures:

The Army's rules for accessing records, and for contesting contents and appealing initial agency determinations are contained in Army Regulation 340-21; 32 CFR part 505; or may be obtained from the system manager.

Record source categories:

Copy of documents in individual's Official Military Personnel File, Military Personnel Records Jacket, Career Management Information File, individual's supervisor, other Army records and reports.

Exemptions claimed for the system:

None.

A0015-34 ARPC

System name:

Army Civilian/Military Service Review Board (June 14, 2001, 66 FR 32336).

Changes:

System identifier:

Delete entry and replace with ‘A0015-34 AHRC’.

* * * * *

System manager(s) and address:

Replace ‘U.S. Army Reserve Personnel Command’ with ‘U.S. Army Human Resources Command’.

* * * * *

A0015-34 AHRC

System name:

Army Civilian/Military Service Review Board.

System location:

U.S. Army Human Resources Command, 1 Reserve Way, St. Louis, MO 63132-5200.

Categories of individuals covered by the system:

Civilians or contractual personnel (or their survivors) who were members of a group certified to have performed active military service with the Armed Forces of the United States.

Categories of records in the system:

Application of individuals for recognition of service, evidence that supports claim of membership in an approved group, name, address, date of birth, social security number, action of the Army Civilian/Military Service Review Board, Certificate of Release or Discharge from Active Duty, Honorable Discharge Certificate, General Discharge Certificate, and/or Report of Casualty as appropriate, and similar relevant documents.

Authority for maintenance of the system:

10 U.S.C. 3013, Secretary of the Army; 38 U.S.C. 106, Certain service deemed to be active service; Pub. L. 105-368, Veterans Benefits Enhancement Act of 1998; Pub. L. 95-202, GI Bill Improvement Act; DoD Directive 1000.20, Active Duty Service Determinations for Civilian or Contractual Groups; Army Regulation 15-34 Department of the Army Individual Service Review Board; and E.O. 9397 (SSN).

Purpose(s):

To determine whether individual applicants were members of civilian or contractual groups approved as having rendered service to the Army and whose service constitutes active military service, and to issue appropriate discharge or casualty documents, including applicable pay and equivalent rank or grade.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Copy of Certificate of Release or Discharge from Active Duty is furnished to the Department of Veterans Affairs for benefit entitlements.

The DoD ‘Blanket Routine Uses’ set forth at the beginning of the Army's compilation of systems of records notices apply to this system.

Policies and practices for storing, retrieving, accessing, retaining, and disposing of records in the system:

Storage:

Papers stored in file folders.

Retrievability:

By applicant's surname.

Safeguards:

Information is accessible only to designated persons having official need therefore in the performance of their duties. During non-duty hours, guards assure that records areas are secured.

Retention and disposal:

Control cards are permanent; maintain in current file area for 20 years then offer to National Archives and Records Administration, 700 Pennsylvania Avenue, NW., Washington, DC 20408. Approved requests result in the creation of an Official Military Personnel File, containing Certificate of Release or Discharge from Active Duty, Honorable Discharge Certificate, General Discharge Certificate, and/or Report of Casualty as appropriate, which is retired permanently, to National Personnel Records Center, 9700 Page Avenue, St. Louis, MO 63132-5100. Documentation relating to disapproved requests are maintained for 2 years then destroyed.

System manager(s) and address:

Commander, U.S. Army Human Resources Command, 1 Reserve Way, St. Louis, MO 63132-5200.

Notification procedure:

Individuals seeking to determine whether information about themselves is contained in this system should address written inquiries to the Commander, U.S. Army Human Resources Command, 1 Reserve Way, St. Louis, MO 63132-5200.

For verification purposes, individual should provide the full name at the time of the recognized military service, date and place of birth, details concerning affiliation with group certified to have performed active duty with the Army, and signature.

Record access procedures:

Individuals seeking access to information about themselves contained in this system should address written inquiries to the Commander, U.S. Army Human Resources Command, 1 Reserve Way, St. Louis, MO 63132-5200.

For verification purposes, individual should provide the full name at the time of the recognized military service, date and place of birth, details concerning affiliation with group certified to have performed active duty with the Army, and signature.

Contesting record procedures:

The Army's rules for accessing records, contesting contents, and appealing initial agency determinations are published in Army Regulation 340-21; 32 CFR part 505; or may be obtained from the system manager.

Record source categories:

From the individual.

Exemptions claimed for the system:

None.

A0025-55 TAPC

System name:

Freedom of Information Act Program Files (May 9, 2003, 68 FR 24954).

Changes:

System identifier:

Delete entry and replace with ‘A0025-55 AHRC’.

* * * * *

Authority for maintenance of the system:

Add to entry ‘5 U.S.C. 301, Departmental Regulations’.

* * * * *

A0025-55 AHRC

System name:

Freedom of Information Act Program Files.

System location:

Headquarters, Department of the Army, staff and field operating agencies, major commands, installations and activities receiving requests to access records pursuant to the Freedom of Information Act or to declassify documents pursuant to E.O. 12958, National Classified Security Information, as amended. Official mailing addresses are published as an appendix to the Army's compilation of record system notices.

Categories of individuals covered by the system:

Any individual who requests an Army record under the Freedom of Information Act, or requests mandatory review of a classified document pursuant to E.O. 12958, National Classified Security Information, as amended.

Categories of records in the system:

Individual's request, related papers, correspondence between office of receipt and records custodians, Army staff offices and other government agencies; retained copies of classified or other exempt materials; and other selective documents.

Authority for maintenance of the system:

5 U.S.C. 552, Freedom of Information Act, as amended by Pub. L. 93-502; 5 U.S.C. 301, Departmental Regulations, 10 U.S.C. 3013, Secretary of the Army; Army Regulation 25-55, The Department of the Army Freedom of Information Act Program; and E.O. 12958, National Classified Security Information, as amended.

Purpose(s):

To control administrative processing of requests for information either pursuant to the Freedom of Information Act or to E.O. 12958, National Classified Security Information, as amended, including appeals from denials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By requester's surname.

Safeguards:

All records are maintained in areas accessible only to authorized personnel who have official need in the performance of their assigned duties. Automated records are further protected by assignment of users identification and password to protect the system from unauthorized access. User identification and passwords are changed at random times.

Retention and disposal:

Records reflecting granted requests are destroyed after 2 years. When requests have been denied, records are retained for 6 years; and if appealed, records are retained 6 years after final denial by the Army or 3 years after final adjudication by the courts, whichever is later.

System manager(s) and address:

Director, U.S. Army Records Management and Declassification Agency, Freedom of Information/Privacy Acts Division, 7798 Cissna Road, Springfield, VA 22153-3166.

Notification procedure:

Individuals seeking to determine if information about themselves is contained in this record system should address written inquiries to the Director, U.S. Army Records Management and Declassification Agency, Freedom of Information/Privacy Acts Division, 7798 Cissna Road, Springfield, VA 22153-3166.

For verification purposes, individual should provide enough information to permit locating the record.

Record access procedures:

Individuals seeking access to records about themselves contained in this record system should address written inquiries to the Director, U.S. Army Records Management and Declassification Agency, Freedom of Information/Privacy Acts Division, 7798 Cissna Road, Springfield, VA 22153-3166.

For verification purposes, individual should provide enough information to permit locating the record.

Contesting record procedures:

The Army's rules for accessing records, and for contesting contents and appealing initial agency determinations are published in Army Regulation 340-21; 32 CFR part 505; or may be obtained from the system manager.

Record source categories:

From the individual, Army organizations, Department of Defense components, and other federal, state, and local government agencies.

Exemptions claimed for the system:

During the course of a FOIA action, exempt materials from ‘other’ systems of records may in turn become part of the case records in this system. To the extent that copies of exempt records from those ‘other’ systems of records are entered into this FOIA case record, the Department of the Army hereby claims the same exemptions for the records from those ‘other’ systems that are entered into this system, as claimed for the original primary systems of records of which they are a part.

An exemption rule for this system has been promulgated in accordance with requirements of 5 U.S.C. 553(b)(1), (2), and (3), (c) and (e) and published in 32 CFR part 505. For additional information contact the system manager.

A0065 TAPC

System name:

Postal and Mail Service System (April 28, 1999, 64 FR 22839).

Changes:

System identifier:

Delete entry and replace with ‘A0065 AHRC’.

* * * * *

System manager(s) and address:

Replace ‘U.S. Army Reserve Personnel Command’ with ‘U.S. Army Human Resources Command“.

* * * * *

A0065 AHRC

System name:

Postal and Mail Service System.

System location:

Postal facilities at Army headquarters offices, commands, and installations. Official mailing addresses are published as an appendix to the Army's compilation of systems of records notices.

Categories of individuals covered by the system:

Persons designated as postal clerks; military and civilian personnel assigned/attached to Army installations who require mail handling service.

Categories of records in the system:

Designating Army postal clerks/NCO's/supervisors/orderlies (DD Form 285); locator cards (DA Form 3955) comprising a directory of individuals assigned, en route, and/or departing given installation, showing individual's full name, grade, current mailing address, date of assignment/detachment, and Social Security Number.

Authority for maintenance of the system:

10 U.S.C. 3013, Secretary of the Army; DoD 4525.6-M, DoD Postal Manual; and E.O. 9397 (SSN).

Purpose(s):

To designate persons authorized to perform Army postal functions; to maintain current addresses of persons arriving/departing units for the purpose of handling personal mail.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the U.S. Postal Service.

The DoD ‘Blanket Routine Uses’ set forth at the beginning of the Army's compilation of systems of records notices also apply to this system.

Policies and practices for storing, retrieving, accessing, retaining, and disposing of records in the system:

Storage:

Paper records, microfiche and electronic storage media.

Retrievability:

By individual's surname and/or Social Security Number.

Safeguards:

Records are located in secured buildings, accessible only to designated persons having an official need for the information. Electronic information is password controlled.

Retention and disposal:

Documents designating postal personnel are destroyed two years from the termination/revocation date of designation. Directory locator cards (DA Form 3955) are retained for 12 months after member's departure from unit and then destroyed.

System manager(s) and address:

Commander, U.S. Army Human Resources Command, ATTN: AHRC-PDO-IP, Army Postal Officer, 200 Stovall Street, Alexandria, VA 22332-0474.

Notification procedure:

Individuals seeking to determine whether information about themselves is contained in this system should address written inquiries to the Installation Postal Director at the unit where assigned or employed.

Individual should provide the full name, Social Security Number, current address, and signature to assist in locating the records.

Record access procedures:

Individuals seeking access to information about themselves contained in this system should address written inquiries to the Installation Postal Director at the unit where assigned or employed.

Individual should provide the full name, Social Security Number, current address, and signature to assist in locating the records. Personal visits may be made; individual must furnish proof of identity.

Contesting record procedures:

The Army's rules for accessing records, and for contesting contents and appealing initial agency determinations are contained in Army Regulation 340-21; 32 CFR part 505; or may be obtained from the system manager.

Record source categories:

From the individual, unit commanders and Army postal officers.

Exemptions claimed for the system:

None.

A0210-190 TAPC

System name:

Individual Gravesite Interment Files (April 12, 1999, 64 FR 17640).

Changes:

* * * * *

System identifier:

Delete entry and replace with ‘A0210-190 AHRC’.

* * * * *

System location:

Replace ‘U.S. Army Reserve Personnel Command’ with ‘U.S. Army Human Resources Command’, and change office symbol to ‘AHRC-PED-A’.

* * * * *

System manager(s) and address:

Replace ‘U.S. Army Reserve Personnel Command’ with ‘U.S. Army Human Resources Command’, and change office symbol to ‘AHRC-PED-A’.

* * * * *

A0210-190 AHRC

System name:

Individual Gravesite Interment Files.

System location:

Commander, U.S. Army Human Resources Command, ATTN: AHRC-PED-A, 2461 Eisenhower Avenue, Alexandria, VA 22331-0482 for Army post cemeteries and at Army installations.

Categories of individuals covered by the system:

Active and former Armed Forces personnel and their dependents who are or will be interred in grave plots in Army post cemeteries or who reserved grave plots prior to 1975.

Categories of records in the system:

Gravesite record of interment (DA Forms 2122 and 2123); reservations prior to 1961; deceased individuals' name, address, date of birth, date of death, and section of grave reserved or interred in, military service, or dependent name and the relationship to service member.

Authority for maintenance of the system:

10 U.S.C. 3013, Secretary of the Army.

Purpose(s):

To maintain records of individuals interred in Army post cemeteries; to conduct periodic surveys to determine validity of reservations; and to respond to inquiries.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Veteran Affairs for the purposes of issuing a government headstone.

The DoD ‘Blanket Routine Uses’ set forth at the beginning of the Army's compilation of systems of records notices also apply to this system.

Policies and practices for storing, retrieving, accessing, retaining, and disposing of records in the system:

Storage:

Paper records in file folders.

Retrievability:

By individual's surname.

Safeguards:

Records are maintained in areas accessible only to authorized personnel having official need therefore in the performance of their duties. Records are kept in secure office areas in a secure building.

Retention and disposal:

Permanent.

System manager(s) and address:

Commander, U.S. Army Human Resources Command, ATTN: AHRC-PED-A, 2461 Eisenhower Avenue, Alexandria, VA 23321-0482 for Army post cemeteries.

Notification procedure:

Individuals seeking to determine whether information about themselves is contained in this records system should address written inquiries to the Commander, U.S. Army Human Resources Command, ATTN: AHRC-PED-A, 2461 Eisenhower Avenue, Alexandria, VA 23321-0482.

Individual should provide full name of veteran, or deceased individual's name and sufficient details to permit locating pertinent records and signature.

Record access procedures:

Individuals seeking access to information about themselves contained in this system should address written inquiries to the Commander, U.S. Army Human Resources Command, ATTN: AHRC-PED-A, 2461 Eisenhower Avenue, Alexandria, VA 23321-0482.

Individual should provide full name of veteran, or deceased individual's name and sufficient details to permit locating pertinent records and signature.

Contesting record procedures:

The Army's rules for accessing records, contesting contents, and appealing initial agency determinations are contained in Army Regulation 340-21; 32 CFR part 505; or may be obtained from the system manager.

Record source categories:

From the individual, his/her representative or next-of-kin; Army records and reports.

Exemptions claimed for the system:

None.

A0340-21 TAPC

System name:

Privacy Case Files (May 9, 2003, 68 FR 24954).

Changes:

System identifier:

Delete entry and replace with ‘A0340-21 AHRC’.

* * * * *

Authority for maintenance of the system:

Add to entry ‘5 U.S.C. 301, Departmental Regulations’.

* * * * *

System manager(s) and address:

Replace ‘Office’ with ‘Division’.

* * * * *

A0340-21 AHRC

System name:

Privacy Case Files.

System location:

These records exist at Headquarters, Department of the Army, staff and field operating agencies, major commands, installations and activities receiving Privacy Act requests. Official mailing addresses are published as an appendix to the Army's compilation of systems of records notices.

Records also exist in offices of Access and Amendment Refusal Authorities when an individual's request to access and/or amend his/her record is denied. Upon appeal of that denial, record is maintained by the Department of the Army Privacy Review Board.

Categories of individuals covered by the system:

Individuals who request information concerning themselves which is in the custody of the Department of the Army or who request access to or amendment of such records in accordance with the Privacy Act of 1974, as amended.

Categories of records in the system:

Documents notifying requesters of the existence of records on them, providing or denying access to or amendment of records, acting on appeals or denials to provide access or amend records, and providing or developing information for use in litigation; Department of the Army Privacy Review Board minutes and actions; copies of the requested and amended or unamended records; statements of disagreement; and other related documents.

Authority for maintenance of the system:

5 U.S.C. 552a, the Privacy Act of 1974, as amended; 5 U.S.C. 301, Departmental Regulations, 10 U.S.C. 3013, Secretary of the Army; and Army Regulation 340-21, The Army Privacy Program.

Purpose(s):

To process and coordinate individual requests for access and amendment of personal records; to process appeals on denials of requests for access or amendment to personal records by the data subject against agency rulings; and to ensure timely response to requesters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and on electronic storage media.

Retrievability:

By name of requester on whom the records pertain.

Safeguards:

Records are accessed by custodian of the record system and by persons responsible for servicing the record system in performance of their official duties. Records are stored in locked cabinets or rooms.

Retention and disposal:

Approved requests, denials that were not appealed, denials fully overruled by appellate authorities and appeals adjudicated fully in favor of requester are destroyed after 4 years. Appeals denied in full or in part are destroyed after 10 years, provided legal proceedings are completed.

System manager(s) and address:

Director, U.S. Army Records Management and Declassification Agency, ATTN: Freedom of Information/Privacy Act Division, 7798 Cissna Road, Springfield, VA 22153-3166.

Notification procedure:

Individuals seeking to determine whether information about themselves is contained in this system should address written inquiries to the U.S. Army Records Management and Declassification Agency, Freedom of Information/Privacy Act Division, 7798 Cissna Road, Springfield, VA 22153-3166.

For verification purposes, individual should provide full name, date and place of birth, current address and other personal information necessary to locate the record.

Record access procedures:

Individuals seeking access to information about themselves contained in this system should address written inquiries to the office that processed the initial inquiry, access request, or amendment request. Individual may obtain assistance from the U.S. Army Records Management and Declassification Agency, Freedom of Information/Privacy Act Division, 7798 Cissna Road, Springfield, VA 22153-3166.

For verification purposes, individual should provide full name, date and place of birth, current address and other personal information necessary to locate the record.

Contesting record procedures:

The Army's rules for accessing records, and for contesting contents and appealing initial agency determinations are contained in Army Regulation 340-21; 32 CFR part 505; or may be obtained from the system manager.

Record source categories:

From the individual, Army organizations, Department of Defense components, and other Federal, state, and local government agencies.

Exemptions claimed for the system:

During the course of a Privacy Act (PA) action, exempt materials from “other” systems of records may become part of the case records in this system of records. To the extent that copies of exempt records from those “other” systems of records are entered into these PA case records, the Department of the Army hereby claims the same exemptions for the records as they have in the original primary systems of records which they are a part.

An exemption rule for this system has been promulgated in accordance with requirements of 5 U.S.C. 553(b)(1), (2), and (3), (c) and (e) published in 32 CFR part 505. For additional information contact the system manager.

A0600-8 ARPC

System name:

Individual Ready, Standby, and Retired Reserve Personnel Information System (December 23, 1997, 62 FR 67055).

Changes:

System identifier:

Delete entry and replace with ‘A0600-8 AHRC’.

* * * * *

Authority for maintenance of the system:

Delete from entry ‘5 U.S.C. 301, Departmental Regulations’.

* * * * *

System location:

Replace ‘U.S. Army Reserve Personnel Command’ with ‘U.S. Army Human Resources Command’.

* * * * *

A0600-8 AHRC

System name:

Individual Ready, Standby, and Retired Reserve Personnel Information System (December 23, 1997, 62 FR 67055).

System location:

U.S. Army Human Resources Command, 9700 Page Boulevard, St. Louis, MO 63132-5200.

Categories of individuals covered by the system:

Members of the U.S. Army Reserve and assigned to a Reserve unit and not serving on extended active duty in an entitled reserve status.

Categories of records in the system:

Personal and military status and qualifications data.

Authority for maintenance of the system:

10 U.S.C. 3013, Secretary of the Army and E.O. 9397 (SSN).

Purpose(s):

To maintain personnel data on members assigned to individual ready, standby, and retired Army Reserves; to select and order individuals to military active duty training, to identify personnel for promotion; to determine those not qualified for retention in the reserve forces; to issue annual statement of retirement credits; to select qualified members for potential assignment to active Army units and reserve component units in the event of mobilization.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Computer magnetic tapes and discs.

Retrievability:

By Social Security Number.

Safeguards:

Records are located in secured building; access requires an ID badge and is limited to individuals having official need therefore.

Retention and disposal:

Records are maintained for 7 months after individual completes statutory or contractual reserve commitment.

System manager(s) and address:

Commander, U.S. Army Human Resources Command, ATTN: AHRC-IMG-F, 9700 Page Boulevard, St. Louis, MO 63132-5200.

Notification procedure:

Individuals seeking to determine whether information about themselves is contained in this system should address written inquiries to the Commander, U.S. Army Human Resources Command, ATTN: AHRC-IMG-F, 9700 Page Boulevard, St. Louis, MO 63132-5200.

For verification purposes, individual should provide full name, Social Security Number, current address and telephone number, and signature.

Record access procedures:

Individuals seeking access to information about themselves contained in this system should address written inquiries to the Commander, U.S. Army Human Resources Command, ATTN: AHRC-IMG-F, 9700 Page Boulevard, St. Louis, MO 63132-5200.

For verification purposes, individual should provide full name, Social Security Number, current address and telephone number, and signature.

Contesting record procedures:

The Army's rules for accessing records, and for contesting contents and appealing initial agency determinations are contained in Army Regulation 340-21; 32 CFR part 505; or may be obtained from the system manager.

Record source categories:

From the Official Military Personnel File and the Military Personnel Records Jacket.

Exemptions claimed for the system:

None.

A0600-8-1a TAPC

System name:

Emergency Data Files (February 22, 1993, 58 FR 10002).

Changes:

System identifier:

Delete entry and replace with ‘A0600-8-1a AHRC’.

* * * * *

System location:

Replace ‘U.S. Army Reserve Personnel Command with ‘U.S. Army Human Resources Command’.

* * * * *

A0600-8-1a AHRC

System name:

Emergency Data Files.

System location:

U.S. Army Human Resources Command, Alexandria, VA 22332-0400. Copy of Record of Emergency Data (DD Form 93) exists in soldier's field Military Personnel Records Jacket (MPRJ).

Categories of individuals covered by the system:

All military personnel on active duty.

Categories of records in the system:

File contains DD Form 93, Record of Emergency Data. Document reflects the service member's name; Social Security Number; spouse and children's names and current address; persons to be and not to be notified in the event of death or injury; information on wills, insurance, and other such information; and designation of beneficiaries for certain benefits.

Authority for maintenance of the system:

10 U.S.C. 3013, Secretary of the Army and E.O. 9397 (SSN).

Purpose(s):

To document names and addresses of person(s) to be notified in emergency situations; to determine lawful disposition of service member's pay and allowances when that member is missing, captured, or becomes a casualty.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Machine processed card in vertical file; paper copy in MPRJ.

Retrievability:

Card is retrieved by Social Security Number; paper copy in MPRJ is retrieved by soldier's surname.

Safeguards:

Building employs security guards; the office in which record is located is in operation 24 hours a day, 7 days a week. Records are accessible only to authorized personnel.

Retention and disposal:

The Emergency Data Card is retained until individual separates from the Army; then destroyed. Copy in the MPRJ is retired with the MPRJ. If individual dies, the form becomes part of the casualty case file which is retired upon completion to the National Personnel Records Center (Military), St. Louis, MO 63132-5200.

System manager(s) and address:

Commander, U.S. Army Human Resources Command, 200 Stovall Street, Alexandria, VA 22332-0400.

Notification procedure:

Individuals seeking to determine if information about themselves is contained in this record system should address written inquiries to the Commander, U.S. Army Human Resources Command, ATTN: AHRC-PEC, Alexandria, VA 22332-0400.

Individual should provide the full name and other information that can be verified from the file.

Record access procedures:

Individuals seeking access to records about themselves contained in this record system should address written inquiries to the Commander, U.S. Army Human Resources Command, ATTN: AHRC-PEC, Alexandria, VA 22332-0400.

Individual should provide the full name and other information that can be verified from the file.

Contesting record procedures:

The Army's rules for contesting contents and appealing initial agency determinations are contained in Army Regulation 340-21; 32 CFR part 505; or may be obtained from the system manager.

Record source categories:

Service member.

Exemptions claimed for the system:

None.

A0600-8-1b TAPC

System name:

Line of Duty Investigations (April 4, 2003, 68 FR 16484).

Changes:

System identifier:

Delete entry and replace with ‘A0600-8-1b AHRC’.

* * * * *

System location:

Replace ‘U.S. Army Reserve Personnel Command’ with ‘U.S. Army Human Resources Command’.

* * * * *

A0600-8-1b AHRC

System name:

Line of Duty Investigations.

System location:

Personnel Plans and Actions Branch, Personnel Service Center at Army Installations; Army Enlisted Records and Evaluation Center, Fort Benjamin Harrison, IN 46249-0601; U.S. Army Human Resources Command, Alexandria, VA 22332-0400; U.S. Army Human Resources Command, 9700 Page Avenue, St. Louis, MO 63132-5200; National Personnel Records Center (Military), 9700 Page Avenue, St. Louis, MO 63132-5200; National Guard Bureau, 5109 Leesburg Pike, Falls Church, VA 22041-3258; and Regional Support Centers for U.S. Army Reserve. Official mailing addresses are published as an appendix to the Army's compilation of record systems notices.

Categories of individuals covered by the system:

Active duty, Reserve and National Guard members who have been injured, diseased or deceased and who are in a duty status.

Categories of records in the system:

Statement of Medical Examination and Duty Status; Report of Investigation-Line of Duty and Misconduct Status; approval/disapproval authority memoranda, and other relevant supporting documents such as military police reports, accident reports, witness statements, and appointment instruments, and action on appeals.

Authority for maintenance of the system:

10 U.S.C. 972, Members: Effect of time lost; 10 U.S.C. 1204, Members, on Active Duty for 30 days or less or on inactive duty training: retirement; 10 U.S.C. 1207, Disability from intentional misconduct of willful neglect: separation; 10 U.S.C. 3013, Secretary of the Army; 37 U.S.C. 802, Forfeiture of pay during absence from duty due to disease from intemperate use of alcohol or drugs; Army Regulation 600-8-1, Army Casualty Operation/Assistance/Insurance; and E.O. 9397 (SSN).

Purpose(s):

To review facts and circumstances of service member's death, injury or disease and render decisions having the effect of approving/denying certain military benefits, pay and allowances.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be provided to the Department of Veterans Affairs for the purpose of determining the service member's entitlement to benefits.

The DoD ‘Blanket Routine Uses’ set forth at the beginning of the Army's compilation of systems of records notices also apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in file folders, microfiche and electronic storage media.

Retrievability:

By Social Security number and by service member's surname.

Safeguards:

Paper records in file folders are maintained in file cabinets accessible only to authorized personnel in the performance of their duties. Electronic storage media accessible to authorized personnel with password capability.

Retention and disposal:

Documents related to determining line of duty status and incident investigation concerning individual Army members are maintained for 5 years then destroyed.

System manager(s) and address:

Commander, U.S. Army Human Resources Command, 200 Stovall Street, Alexandria, VA 22332-0400.

Notification procedure:

Individuals seeking to determine if information about themselves is contained in this record system should address written inquiries to the Commander, U.S. Army Enlisted Records and Evaluation Center, Fort Benjamin Harrison, IN 46249-0601 (For enlisted personnel on active duty); Commander, U.S. Army Human Resources Command, Alexandria, VA 22332-0400 (For officers on active duty); Commander, U.S. Army Human Resources Command, 9700 Page Avenue, St. Louis, MO 63132-5200 (For Army reserve personnel); National Personnel Records Center (Military), 9700 Page Avenue, St. Louis, MO 63132-5200 (For separated enlisted and officer personnel); National Guard Bureau, 5109 Leesburg Pike, Falls Church, VA 22041-3258 (For full-time National Guard Duty under 32 U.S.C., those in federalized status, or those attending active Army service school).

Individuals should provide the full name, Social Security Number, present address, and signature.

Record access procedures:

Individuals seeking access to records about themselves contained in this record system should address written inquiries to the Commander, U.S. Army Enlisted Records and Evaluation Center, Fort Benjamin Harrison, IN 46249-0601 (For enlisted personnel on active duty); Commander, U.S. Army Human Resources Command, Alexandria, VA 22332-0400 (For officers on active duty); Commander, U.S. Army Human Resources Command, 9700 Page Avenue, St. Louis, MO 63132-5200 (For Army reserve personnel); National Personnel Records Center (Military), 9700 Page Avenue, St. Louis, MO 63132-5200 (For separated enlisted and officer personnel); National Guard Bureau, 5109 Leesburg Pike, Falls Church, VA 22041-3258 (For full-time National Guard Duty under 32 U.S.C., those in federalized status, or those attending active Army service school).

Individuals should provide the full name, Social Security Number, present address, and signature.

Contesting record procedures:

The Army's rules for accessing records, and for contesting contents and appealing initial agency determinations are contained in Army Regulation 340-21; 32 CFR part 505; or may be obtained from the system manager.

Appeals of determinations by authority of the Secretary of the Army are governed by AR 600-8-1, Army Casualty and Memorial Affairs and Line of Duty Investigations; collateral review of decided cases is limited to questions of completeness of the records of such determinations.

Record source categories:

From the individual, medical records, service member's commander, official Army records and reports, witness statements, civilian and military law enforcement agencies.

Exemptions claimed for the system:

None.

A0600-8-1c AHRC

System name:

Army Casualty Information Processing System (ACIPS) (December 23, 1997, 62 FR 67055).

Changes:

System identifier:

Delete entry and replace with ‘A0600-8-1c AHRC’.

* * * * *

System location:

Replace ‘U.S. Army Reserve Personnel Command” with ‘U.S. Army Human Resources Command’.

* * * * *

A0600-8-1c AHRC

System name:

Army Casualty Information Processing System (ACIPS).

System location:

U.S. Army Human Resources Command, 2461 Eisenhower Avenue, Alexandria, VA 22331-0481.

Categories of individuals covered by the system:

Army personnel who are reported as casualties in accordance with Army Regulation 600-8-1, Army Casualty Operations, Assistance, Insurance and Line of Duty Administrative Procedures.

Categories of records in the system:

Individual's name, Social Security Number, date of birth, branch of service, organization, duty, military occupational specialty (MOS), rank, sex, race, religion, home of record, and other pertinent information; Military Personnel Records Jacket (MPRJ), health/dental records, all correspondence between Department of the Army and soldier, soldier's primary next of kin/secondary next of kin, inquiries from other agencies and individuals, DD Form 1300 (Report of Casualty).

Authority for maintenance of the system:

10 U.S.C. 3013, Secretary of the Army; Pub.L. 93-289; and E.O. 9397 (SSN).

Purpose(s):

To respond to inquiries; to provide statistical data comprising type, number, place and cause of incident to Army members.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Magnetic tapes, computer printouts, punch cards, paper records in file cabinets.

Retrievability:

By individual's name and/or Social Security Number or any other data element.

Safeguards:

All information is restricted to a secure area in buildings which employ security guards. Computer printouts and magnetic tapes and files are protected by password known only to properly screened personnel possessing special authorization for access.

Retention and disposal:

Records are permanent.

System manager(s) and address:

Commander, U.S. Army Human Resources Command, 2461 Eisenhower Avenue, Alexandria, VA 22331-0481.

Notification procedure:

Individuals seeking to determine if information about themselves is contained in this record system should address written inquiries to the Commander, U.S. Army Human Resources Command, ATTN: AHRC-PEC, 2461 Eisenhower Avenue, Alexandria, VA 22331-0481.

Individual should provide full name, current address and telephone number, and should identify the person who is the subject of the inquiry by name, rank and Social Security Number.

Record access procedures:

Individuals seeking access to records about themselves contained in this record system should address written inquiries to the Commander, U.S. Army Human Resources Command, ATTN: AHRC-PEC, 2461 Eisenhower Avenue, Alexandria, VA 22331-0481.

Individual should provide full name, current address and telephone number, and should identify the person who is the subject of the inquiry by name, rank and Social Security Number.

Contesting record procedures:

The Army's rules for accessing records, and for contesting contents and appealing initial agency determinations are contained in Army Regulation 340-21; 32 CFR part 505; or may be obtained from the system manager.

Record source categories:

From casualty reports received from Army commanders and from investigations conducted by Army commanders under AR 15-6, Procedures for Investigating Officers and Boards of Officers.

Exemptions claimed for the system:

None.

A0600-8-14 DAPE

System name:

Uniformed Services Identification Card (May 15, 2002, 67 FR 34686).

Changes:

System identifier:

Delete entry and replace with ‘A0600-8-14 AHRC’.

* * * * *

Authority for maintenance of the system:

Add to entry ‘5 U.S.C. 301, Departmental Regulations’.

* * * * *

System manager(s) and address:

Replace ‘U.S. Total Army Personnel Command” with ‘U.S. Army Human Resources Command’.

* * * * *

A0600-8-14 AHRC

System name:

Uniformed Services Identification Card (May 15, 2002, 67 FR 34686).

System location:

Headquarters, Department of the Army, Major Army commands, staff and field operating agencies, installations and activities, Army-wide. Official mailing addresses are published as an appendix to the Army's compilation of systems of records notices.

Categories of individuals covered by the system:

Active duty, Reserve, National Guard and retired members of the uniformed services and their family members; Department of the Army civilian employees assigned overseas or residing on a military installation within the United States and their authorized family members; eligible foreign military personnel and their family members; civilian employees under contract with the Department of Defense, Uniformed Services and other government agencies and their authorized family members; Red Cross personnel authorized by the Geneva Convention to accompany the Armed Forces; as well as other civilian and uniformed service members found eligible in accordance with eligibility requirements.

Categories of records in the system:

Application for a Uniformed Services Identification Card/DEERS Enrollment, service members name, Social Security Number, unit address and phone number, date of birth, age, blood type, marital status, family member's name, age, home address and phone number.

Authority for maintenance of the system:

5 U.S.C. 301, Departmental Regulations, 10 U.S.C. 3013, Secretary of the Army; Army Regulation 600-8-14, Identification Cards for Members of The Uniformed Services, Their Family Members, and Other Eligible Personnel; and E.O. 9397 (SSN).

Purpose(s):

Provide a record of identification cards issued and DEERS enrollment to ensure positive identification of personnel authorized privileges and service on military installations and/or activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Use’ set forth at the beginning of the Army's compilation of systems of records notices also apply to this system.

Policies and practices for storing, retrieving, accessing, retaining, and disposing of records in the system:

Storage:

Paper records in file folders; magnetic tapes; discs; cassettes; computer printouts, and microfiche.

Retrievability:

By service members' name and Social Security Number; by applicant's name and Social Security Number.

Safeguards:

Records are maintained in secured buildings and are accessed only by authorized personnel who are trained and cleared for access, in the performance of their duties. Established procedures for the control of computer access are in place and periodically reviewed and updated to prevent unwarranted access.

Retention and disposal:

Applications for military identification cards are destroyed after 1 year. Uniformed services identification cards are destroyed when no longer needed for current operations. Registers are destroyed after 5 years, unless they are bound which are maintained for 5 years after last entry then destroyed.

Uniformed Services identification cards for family members and other eligible personnel are destroyed when voided, replaced or is no longer valid (has expired).

System manager(s) and address:

Commander, U.S. Army Human Resources Command, 200 Stovall Street, Alexandria, VA 22332-0400.

Notification procedure:

Individuals seeking to determine whether information about themselves is contained in this system should address written inquiries to the issuing office where the individual obtained the identification card or to the system manager.

Individual should provide the full name, number of the identification card, current address, and signature.

Record access procedures:

Individuals seeking access to records about themselves contained in this record system should address written inquiries to the issuing officer at the appropriate installation.

Individual should provide the full name, number of the identification card, current address, and signature.

Contesting record procedures:

The Army rules for accessing records, and for contesting contents and appealing initial agency determinations are contained in Army Regulation 340-21; 32 CFR part 505; or may be obtained from the system manager.

Record source categories:

From the individual, Army records and reports.

Exemptions claimed for the system:

None.

A0600-8-22 AHRC

System name:

Military Awards Case File (January 8, 2001, 66 FR 1315).

Changes:

System identifier:

Delete entry and replace with ‘A0600-8-22 AHRC’.

* * * * *

System manager(s) and address:

Replace ‘U.S. Total Army Personnel Command” with ‘U.S. Army Human Resources Command’.

* * * * *

A0600-8-22 AHRC

System name:

Military Awards Case File.

System location:

U.S. Army Human Resources Command, 200 Stovall Street, Alexandria, VA 22332-0471. Segments exist at Army commands which have been delegated authority for approval of an award. Official mailing addresses may be obtained from the U.S. Army Human Resources Command, 200 Stovall Street, Alexandria, VA 22332-0471.

Categories of individuals covered by the system:

Military personnel on active duty, members of reserve components, U.S. civilians serving with U.S. Army units in a combat zone, and deceased former members of the U.S. Army.

Categories of records in the system:

Files include recommendations for an award; endorsements; award board approvals/disapprovals; citation texts; Department of Army letter orders/general orders; related papers supporting the award; correspondence among the Army; service member, and individuals having knowledge/information relating to the service member concerned or the act or achievement for which an award is recommended.

Authority for maintenance of the system:

10 U.S.C. Chapters 57 and 357, Decorations and Awards; 10 U.S.C. 3013, Secretary of the Army; Army Regulation 600-8-22, Military Awards; and E.O. 9397 (SSN).

Purpose(s):

To consider individual nominations for awards and/or decorations; record final action; maintain individual award case files.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to public and private organizations including news media, which grant or publicize awards or honors.

The DoD ‘Blanket Routine Uses’ set forth at the beginning of the Army's compilation of systems of records notices also apply to this system.

Policies and practices for storing, retrieving, accessing, retaining, and disposing of records in the system:

Storage:

Paper records in file folders and electronic storage media.

Retrievability:

By nominee's name, service number and/or Social Security Number.

Safeguards:

Records are maintained in locked file cabinets in secure buildings and are accessible only to designated personnel in the performance of their assigned duties.

Retention and disposal:

Documents related to providing information about awards given to individuals, i.e. announcements, lists, cards, and similar information destroy after 2 years. Approval and disapproval authority: Approved awards relating to wartime and combat activities are held permanently; Approved peacetime awards and all disapproved awards are retired to the Washington National Records Center and are destroyed after 25 years. Offices not within the disapproval or approval authority maintain records for 2 years then destroy. Proficiency awards are destroyed on transfer of the individual. Public award cases: Exercising approval authority maintain records for 56 years then destroy; Non-approval authority offices maintain records for 2 years then destroy. Special achievement awards: Exercising awarding authority maintain records for 5 years then destroy; Non-Award authority offices maintain for 2 years then destroy.

System manager(s) and address:

Commander, U.S. Army Human Resources Command, Awards Policy Division, 200 Stovall Street, Alexandria, VA 22332-0471.

Notification procedure:

Individuals seeking to determine whether information about themselves is contained in this system should address written inquiries to the Commander, U.S. Army Human Resources Command, Awards Policy Division, 200 Stovall Street, Alexandria, VA 22332-0471.

Individual should provide the full name, service number and/or Social Security Number, grade and branch of service, name of award/honor, and current address.

Record access procedures:

Individuals seeking access to information about themselves contained in this system should address written inquiries to the Commander, U.S. Army Human Resources Command, Awards Policy Division, 200 Stovall Street, Alexandria, VA 22332-0471.

Individual should provide the full name, service number and/or Social Security Number, grade and branch of service, name of award/honor, and current address.

Contesting record procedures:

The Army's rules for accessing records, and for contesting contents and appealing initial agency determinations are contained in Army Regulation 340-21; 32 CFR part 505; or may be obtained from the system manager.

Record source categories:

From Recommendation for Awards (DA Form 638) with supporting records, forms, statements, letters, and similar documents originated by persons other than the awardee and other individuals having information useful in making an award determination.

Exemptions claimed for the system:

None.

A0600-8-22j TAPC

System name:

Cold War Recognition System (February 26, 1999, 64 FR 9479).

Changes:

System identifier:

Delete entry and replace with ‘A0600-8-22j AHRC’.

* * * * *

System manager(s) and address:

Replace ‘U.S. Total Army Personnel Command” with ‘U.S. Army Human Resources Command’.

* * * * *

A0600-8-22j AHRC

System name:

Cold War Recognition System.

System location:

U.S. Army Information Systems Software Development Center-Washington, ATTN: CWRS, 6000 6th Street, Suite S122A, Fort Belvoir, VA 22060-5576.

Categories of individuals covered by the system:

Members of the Armed Forces and government civilian personnel who faithfully served the United States after World War II through the collapse of the former Soviet Union, known as the Cold War era, September 2, 1945 to December 26, 1991.

Categories of records in the system:

Individual's name, Social Security Number, and address.

Authority for maintenance of the system:

10 U.S.C. 3013, Secretary of the Army; FY98 National Defense Authorization Act, Section 1084; Army Regulation 600-8-22, Military Awards and E.O. 9397 (SSN).

Purpose(s):

To consider individual's request for the Cold War Recognition Certificate, and to issue/mail certificates.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Automated, maintained on magnetic tapes or disks.

Retrievability:

By Social Security Number or certificate recipient's name.

Safeguards:

Records are accessible only to designated individuals having official need therefore in the performance of assigned duties.

Retention and disposal:

Requests are held for 5 years.

System manager and address:

Chief, Personnel Service Support Division, The Adjutant General, Directorate, U.S. Army Human Resources Command, 200 Stovall Street, Suite 3S53, Alexandria, VA 22332-0474.

Notification procedure:

Individuals seeking to determine whether information about themselves is contained in this system should address written inquiries to the Commander, U.S. Army Information Systems Software Development Center—Washington, ATTN: Cold War Recognition System, ATTN: CWRS, 6000 6th Street, Suite S122A, Fort Belvoir, VA 22060-5576.

Individual should provide the full name and Social Security Number of the certificate recipient.

Record access procedures:

Individuals seeking to determine whether information about themselves is contained in this system should address written inquiries to the Commander, U.S. Army Information Systems Software Development Center—Washington, ATTN: Cold War Recognition System, ATTN: CWRS, 6000 6th Street, Suite S122A, Fort Belvoir, VA 22060-5576.

Individual should provide the full name and Social Security Number of the certificate recipient.

Contesting record procedures:

The Army's rules for accessing records, and for contesting contents and appealing initial agency determinations are contained in Army Regulation 340 21; 32 CFR part 505; or may be obtained from the system manager.

Record source categories:

From the individual.

Exemptions claimed for the system:

None.

A0600-8-23 TAPC

System name:

Standard Installation/Division Personnel System (SIDPERS) (May 31, 2002, 67 FR 38070).

Changes:

System identifier:

Delete entry and replace with ‘A0600-8-23 AHRC’.

* * * * *

Authority for maintenance of the system:

Delete from entry ‘5 U.S.C. 301, Departmental Regulations’.

* * * * *

A0600-8-23 AHRC

System name:

Standard Installation/Division Personnel System (SIDPERS).

System location:

National Guard records are located at the Army National Guard Readiness Center, 111 South George Mason Drive, Arlington, VA 22204-1382.

Reserve Component records are located at the U.S. Army Human Resources Command, 9700 Page Boulevard, St. Louis, MO 63132-5200.

Regular Army records are located at the Army Information Processing Centers located in Chambersburg, PA 17201-4150; Huntsville, AL 35898-7340; Rock Island, IL 61299-7210; and St. Louis, MO 63120-1798.

Categories of individuals covered by the system:

All active duty Army personnel, personnel attached from National Guard and/or Army reserve members of the Army National Guard, and individuals currently assigned to a U.S. Army Reserve unit.

Categories of records in the system:

Name, Social Security Number, sex, race, citizenship, status, religious denomination, marital status, number of dependents, date of birth, physical profile, ethnic group, grade and date of rank, term of service for enlisted personnel, security clearance, service agreement for non-regular officers, promotion data and dates, special pay and bonus, unit of assignment and identification code, military occupational specialty, civilian occupation, additional skill identifiers, civilian and military education levels, languages, military qualification, assignment eligibility, availability and termination date thereof, security status, suspension of favorable personnel action indicator, Privacy Act disputed record indicator, and similar relevant data.

Authority for maintenance of the system:

10 U.S.C. 3013, Secretary of the Army; Army Regulation 600-8-23, Standard Installation/Division Personnel System Database Management; and E.O. 9397 (SSN).

Purpose(s):

To support personnel management decisions concerning the selection, distribution and utilization of all personnel in military duties, strength accounting and manpower management, promotions, demotions, transfers, and other personnel actions essential to unit readiness; to identify and fulfill training needs; and to support automated interfaces with authorized information systems for pay, mobilization, and other statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Magnetic tapes, discs, microfiche, punched cards, and computer printouts.

Retrievability:

By Name, Social Security Number, or other individually identifying characteristics.

Safeguards:

Access to data and data storage is controlled and accessible only to authorized personnel and authorized personnel with password capability for the electronic media access.

Retention and disposal:

Records are maintained one year in records holding area or current file area then retired to National Personnel Records Center. Maintained there for 75 years then destroyed.

System manager(s) and address:

National Guard: Chief, National Guard Bureau, Army National Guard Readiness Center, 111 South George Mason Drive, Arlington, VA 22204-1382.

Reserve Component: Deputy Chief of Staff for Personnel, Headquarters, Department of the Army, 300 Army Pentagon, Washington, DC 20310-0300.

Regular Army: Commander, U.S. Army Human Resources Command, 200 Stovall Street, Alexandria, VA 22332-0400.

Notification procedure:

Individuals seeking to determine whether information about themselves is contained in this system should address written inquiries to the appropriate address below:

National Guard individuals should address inquiries to the National Guard Bureau, Army National Guard Readiness Center, 111 South George Mason Drive, Arlington, VA 22204-1382.

Reserve individuals should address inquiries to the Commander of the Army Headquarters in which the unit is located.

Regular Army individuals should address inquiries to their local Commander. All individuals should furnish full name, service identification number, current address and telephone number, signature, and specific information concerning the event or incident that will assist in locating the record.

Personal visits may be made. Individual must furnish proof of identity.

Record access procedures:

Individuals seeking to access information about themselves contained in this system should address written inquiries appropriate to the address below:

National Guard individuals should address inquiries to the National Guard Bureau, Army National Guard Readiness Center, 111 South George Mason Drive, Arlington, VA 22204-1382.

Reserve individuals should address inquiries to the Commander of the Army Headquarters in which the unit is located.

Regular Army individuals should address inquiries to their local Commander.

All individuals should furnish full name, service identification number, current address and telephone number, signature, and specific information concerning the event or incident that will assist in locating the record.

Personal visits may be made. Individual must furnish proof of identity.

Contesting record procedures:

The Army's rules for accessing records, and for contesting contents and appealing initial agency determinations are contained in Army Regulation 340-21; 32 CFR part 505; or may be obtained from the system manager.

Record source categories:

National Guard and Reserve Component: From the individual, individual's personnel and pay files, other Army records and reports.

Regular Army: From individual, commanders, Army records and documents, other Federal agencies.

Exemptions claimed for the system:

None.

A0600-8-101TAPC

System name:

Military and Civilian Out-Processing Files (April 20, 2001, 66 FR 20278).

Changes:

System identifier:

Delete entry and replace with ‘A0600-8-101 AHRC’.

* * * * *

System manager(s) and address:

Replace ‘U.S. Total Army Personnel Command’ with ‘U.S. Army Human Resources Command’.

* * * * *

A0600-8-101 AHRC

System name:

Military and Civilian Out-Processing Files.

System location:

Administrative offices and Army Staff agencies, field operating commands, installations and/or activities Army wide. Official mailing addresses are published as an appendix to the Army's compilation of record systems notices.

Categories of individuals covered by the system:

All Army active duty, National Guard, Army Reserve and Department of the Army civilian personnel.

Categories of records in the system:

Installation and Unit Clearance Records, Reassignment Records Checklist, copy of receipts or documents evidencing payment of telephone bills, return of material held on memorandum receipt and other supporting clearance matters and materials.

Authority for maintenance of the system:

10 U.S.C. 3013, Secretary of the Army; Army Regulation 600-8-101, Personnel (In- and Out- and Mobilization Processing); and E.O. 9397 (SSN).

Purpose(s):

To verify that an individual has obtained clearance from the Army Staff agency or installation's facilities and has accomplished his/her personal and official obligations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By Social Security Number and Surname of departing individual.

Safeguards:

Information is accessed only by designated persons having official need therefore.

Retention and disposal:

Information concerning clearance procedures for departing soldiers, included are clearance certificates, checklists, and related information are maintained for one year then destroyed.

Information listed in the out-processing master file and out-processing outputs files treat as permanent until a disposition and retention schedule has been approved by the National Archives and Records Administration.

System manager(s) and address:

Commander, U.S. Army Human Resources Command, Out-Processing Functional Proponent, 200 Stovall Street, Alexandria, Virginia 22332-0474.

Notification procedure:

Individuals seeking to determine whether information about themselves is contained in this system should address written inquiries to the administrative office of the installation/activity to which the individual had been assigned.

Individual should provide the full name, Social Security Number, departure date, location of last employing office, and signature.

Record access procedures:

Individuals seeking access to information about themselves contained in this system should address written inquiries to the administrative office of the installation/activity to which the individual had been assigned.

Individual should provide the full name, Social Security Number, departure date, location of last employing office, and signature.

Contesting record procedures:

The Army's rules for accessing records, and for contesting contents and appealing initial agency determinations are contained in Army Regulation 340-21; 32 CFR part 505; or may be obtained from the system manager.

Record source categories:

From the individual; Army records and reports.

Exemptions claimed for the system:

None.

A0600-8-104 TAPC

System name:

Military Personnel Records Jacket Files (MPRJ) (December 8, 2000, 65 FR 77002).

Changes:

System identifier:

Delete entry and replace with ‘A0600-8-104 AHRC’.

* * * * *

System manager(s) and address:

Replace ‘U.S. Total Army Personnel Command’ with ‘U.S. Army Human Resources Command’.

* * * * *

A0600-8-104 AHRC

System name:

Military Personnel Records Jacket Files (MPRJ).

System location:

Active and Reserve Army Commands/field operating agencies, installations, activities. Official mailing addresses are published as an appendix to the Army's compilation of record system notices.

Categories of individuals covered by the system:

Enlisted, warrant and commissioned officers on active duty in the U.S. Army; enlisted, warrant and commissioned officers of the U.S. Army Reserve in active reserve (unit or non-unit) status; retired persons; commissioned/warrant officers separated after June 30, 1917 and enlisted personnel separated after October 31, 1912.

Categories of records in the system:

Records reflecting qualifications, emergency data, enlistment and related service agreement/extension/active duty orders; military occupational specialty evaluation data; group life insurance election; record of induction; security questionnaire and clearance; transfer/discharge report/Certificate of Release or Discharge from Active Duty; language proficiency questionnaire; police record check; statement of personal history; application for ID; Department of Veterans Affairs compensation forms and related papers; dependent medical care statement and related forms; training and experience documents; survivor benefit plan election certificate; efficiency reports; application/nomination for assignment; achievement certificates; record of proceeding and appellate or other supplementary actions, Article 15 (10 U.S.C. 815); weight control records; personnel screening and evaluation records; application/prior service enlistment documents; certificate barring reenlistment; waivers for enlistment; physical evaluation board summaries; service record brief; Army School records; classification board proceedings; correspondence relating to badges, medals, and unit awards, including foreign decorations; correspondence/letters/administrative reprimands/censures/admonitions relating to apprehensions/confinement/discipline; dependent travel and movement of household goods; personal indebtedness correspondence and related papers; documents relating to proficiency pay, promotion, reduction in grade, release, retirement (includes documents pertaining to pre-separation and job assistance needs in transition from military to civilian life), temporary duty, individual flight records, physical examination records, aviator flight record, instrument certification papers, duty status, leave, and similar military documents prescribed for filing by Army regulations or directives.

Authority for maintenance of the system:

10 U.S.C. 3013, Secretary of the Army; 42 U.S.C. 10606 et seq.; Department of Defense Directive 1030.1, Victim and Witness Assistance; Army Regulation 600-8-104, Military Personnel Information Management/Records; and E.O. 9397 (SSN).

Purpose(s):

Personnel records are created and maintained to manage the member's Army Service effectively, document historically the member's military service, and safeguard the rights of the member and the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of State to issue passport/visa; to document persona-non-grata status, attaché assignments, and related administration of personnel assigned and performing duty with the Department of State.

To the Department of Treasury to issue bonds; to collect and record income taxes.

To the Department of Justice to file fingerprints to perform investigative and judicial functions.

To the Department of Agriculture to coordinate matters related to its advanced education program.

To the Department of Labor to accomplish actions required under Federal Employees Compensation Act.

To the Department of Health and Human Services to provide services authorized by medical, health, and related functions authorized by 10 U.S.C. 1074 through 1079.

To the Nuclear Regulatory Commission to accomplish requirements incident to Nuclear Accident/Incident Control Officer functions.

To the American Red Cross to accomplish coordination and service functions including blood donor programs and emergency investigative support and notifications.

To the Civil Aeronautics Board to accomplish flight qualifications, certification and licensing actions.

To the Federal Aviation Agency to determine rating and certification (including medical) of in-service aviators.

To the General Services Administration for records storage and archival services and for printing of directories and related material which includes personal data.

To the U.S. Postal Service to accomplish postal service authorization involving postal officers and mail clerk authorizations.

To the Department of Veterans Affairs to provide information relating to service, benefits, pensions, in-service loans, insurance, and appropriate hospital support.

To the Bureau of Immigration and Naturalization to comply with status relating to alien registration, and annual residence/location.

To the Office of the President of the United States of America to exchange required information relating to White House Fellows, regular Army promotions, aides, and related support functions staffed by Army members.

To the Federal Maritime Commission to obtain licenses for military members accredited as captain, mate, and harbor master for duty as Transportation Corps warrant officer.

To each of the several states, and U.S. possessions to support state bonus application; to fulfill income tax requirements appropriate to the service member's home of record; to record name changes in state bureaus of vital statistics; and for National Guard affairs.

Civilian educational and training institutions to accomplish student registration, tuition support, tests, and related requirements incident to in-service education programs in compliance with 10 U.S.C. chapters 102 and 103.

To the Social Security Administration to obtain or verify Social Security Number; to transmit Federal Insurance Compensation Act deductions made from members' wages.

To the Department of Transportation to coordinate and exchange necessary information pertaining to inter-service relationships between U.S. Coast Guard (USCG) and U.S. Army when service members perform duty with the USCG.

To the Civil authorities for compliance with 10 U.S.C. 814.

To the U.S. Information Agency to investigate applicants for sensitive positions pursuant to E.O. 10450.

To the Federal Emergency Management to facilitate participation of Army members in civil defense planning, training, and emergency operations pursuant to the military support of civil defense as prescribed by DoD Directive 3025.10, Military Support of Civil Defense, and Army Regulation 500-70, Military Support of Civil Defense.

To the Director of Selective Service System to Report of Non-registration at Time of Separation Processing, of individuals who decline to register with Selective Service System. Such report will contain name of individual, date of birth, Social Security Number, and mailing address at time of separation.

Other elements of the Federal Government pursuant to their respective authority and responsibility.

To the Military Banking Facilities Overseas. Information as to current military addresses and assignments may be provided to military banking facilities who provide banking services overseas and who are reimbursed by the Government for certain checking and loan losses. For personnel separated, discharged or retired from the Armed Forces, information as to last known residential or home of record address may be provided to the military banking facility upon certification by a banking facility officer that the facility has a returned or dishonored check negotiated by the individual or the individual has defaulted on a loan and that if restitution is not made by the individual, the U.S. Government will be liable for the losses the facility may incur.

Note: Record of the identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The DoD ‘Blanket Routine Uses’ set forth at the beginning of the Army's compilation of systems of records notices do not apply to these categories of records.

County and city welfare organizations to provide information needed to consider applications for benefits.

Penal institutions to provide health information to aid patient care.

State, county, and city officials to include law enforcement authorities to provide information to determine benefits or liabilities, or for the investigation of claim or crimes. Patriotic societies incorporated, pursuant to 36 U.S.C., in consonance with their respective corporate missions when used to further the welfare, morale, or mission of the soldier. Information can be disclosed only if the agency which receives it adequately prevents its disclosure to persons other than their employees who need such information to perform their authorized duties.

To victims and witnesses of a crime for purposes of providing information, consistent with the requirements of the Victim and Witness Assistance Program, regarding the investigation and disposition of an offense.

The DoD ‘Blanket Routine Uses’ set forth at the beginning of the Army's compilation of systems of records notices also apply to this system, except for those specifically excluded categories of records.

Policies and practices for storing, retrieving, accessing, retaining, and disposing of records in the system:

Storage:

Paper records in file folders.

Retrievability:

By individual's name and/or Social Security Number.

Safeguards:

All records are maintained in secured areas, accessible only to designated individuals whose official duties require access; they are transferred from station to station in personal possession of the individual whose record it is or, when this is not feasible, by U.S. Postal Service.

Retention and disposal

The maintenance, forwarding, and disposition of the MPRJ (DA Form 201) and its contents are governed by Army Regulations 600-8-104, Military Personnel Information Management/Records and 635-10, Processing Personnel for Separations.

System manager(s) and address:

Commander, U.S. Army Human Resources Command, 200 Stovall Street, Alexandria, VA 22332-0400.

Notification procedure:

Individuals seeking to determine if information about themselves is contained in this record system should address written inquiries to the commander of the organization to which the service member is assigned; for retired and non-unit reserve personnel, information may be obtained from the U.S. Army Human Resources Command, 9700 Page Avenue, St. Louis, MO 63132-5200; for discharged and deceased personnel contact the National Personnel Records Center, General Services Administration, 9700 Page Boulevard, St. Louis, MO 63132-5100.

Individual should provide the full name, Social Security Number, service identification number, current address and telephone number, and signature.

Record access procedures:

Individuals seeking access to records about themselves contained in this record system should address written inquiries to the commander of the organization to which the service member is assigned; for retired and non-unit reserve personnel, information may be obtained from the U.S. Army Human Resources Command, 9700 Page Avenue, St. Louis, MO 63132-5200; for discharged and deceased personnel contact the National Personnel Records Center, General Services Administration, 9700 Page Boulevard, St. Louis, MO 63132-5100.

Individual should provide the full name, Social Security Number, service identification number, current address and telephone number, and signature.

Contesting record procedures:

The Army's rules for accessing records, and for contesting contents and appealing initial agency determinations are contained in Army Regulation 340-21; 32 CFR part 505; or may be obtained from the system manager.

Record source categories:

From the individual, educational and financial institutions, law enforcement agencies, personal references provided by the individual, Army records and reports, third parties when information furnished relates to the service member's status.

Exemptions claimed for the system:

None.

A0600-8-104b NGB

System name:

Military Personnel Records Jacket (NGB) (January 25, 2001, 66 FR 7744).

Changes:

* * * * *

Authority for maintenance of the system:

Delete from entry ‘5 U.S.C. 301, Departmental Regulations’.

* * * * *

Retention and disposal:

Replace ‘U.S. Total Army Personnel Command” with ‘U.S. Army Human Resources Command’.

* * * * *

A0600-8-104b NGB

System name:

Military Personnel Records Jacket (NGB).

System location:

The custodian of the Military Personnel Record will either be the State Personnel Service Center (PSC) located in conjunction with the Office of the Adjutant General or each National Guard Armory in those non-PSC states: Guam, Puerto Rico, the Virgin Islands, and the District of Columbia. Addresses for each state headquarters may be obtained from the National Guard Bureau, Army National Guard Readiness Center, ATTN: NGB-ARP-S, 111 South George Mason Drive, Arlington, VA 22204-1382.

Categories of individuals covered by the system:

All members of the Army National Guard not on active duty.

Categories of records in the system:

The individual's service agreement, record of emergency data, certificates of release or discharge from active duty (DD Form 214) and other service computation documents, active duty orders, military occupational specialty orders, Servicemen's Group Life Insurance election, security questionnaire and clearance, transfer requests and orders, promotions, reductions, personnel qualification record (DD Form 2091), oath of extensions of enlistment, selective reserve incentive program agreements, notice of basic eligibility (NOBE) for GI Bill, and discharge documents and orders.

Authority for maintenance of the system:

10 U.S.C. 3013, Secretary of the Army; E.O. 9397 (SSN); and AR 600-8-104, Military Personnel Information Management/Records.

Purpose(s):

These records are created and maintained to manage the member's National Guard Service effectively; Historically document the member's military service; and Safeguard the rights of members and the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Central Intelligence Agency; Department of Agriculture; Department of Commerce; Department of Health and Human Services; Department of Education; Department of Labor; Department of State; Department of the Treasury; Department of Transportation; Federal Aviation Agency; National Transportation Safety Board; American Battle Monuments Commission; Department of Veterans Affairs; Federal Communications Commission; U.S. Postal Service; Selective Service System; Social Security Administration; state, county and city welfare organizations when information is required to consider applications for benefits; penal institutions when the individual is a patient or an inmate; state, county and city law enforcement authorities.

Note: Record of the identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, as amended, in regard to accessibility of such records except to the individual to whom the record pertains. Blanket Routine Uses do not apply to these records.

The DoD ‘Blanket Routine Uses’ set forth at the beginning of the Army's compilation of systems of records notices also apply to this system.

Policies and practices for storing, retrieving, accessing, retaining, and disposing of records in the system:

Storage:

Paper records in file folders.

Retrievability:

By individual's name.

Safeguards:

Records maintained in areas accessible only to authorized personnel having need therefore in the performance of official business. The Military Personnel Records Jacket is transferred from station to station in the personal possession of the individual whose record it is, or by U.S. Postal Service.

Retention and disposal:

Military personnel records are retained until updated or service of individual is terminated. Following separation, the transfer of the records is to the U.S. Army Human Resources Command or to the National Personnel Records Center.

System manager(s) and address:

National Guard Bureau, Army National Guard Readiness Center, ATTN: NGB-AHRC, 111 South George Mason Drive, Arlington, VA 22204-1382.

Notification procedure:

Individuals seeking to determine if information about themselves is contained in this record system should address written inquiries to the commander of the unit to which the Army National Guard member is assigned.

For separated personnel, information may be obtained from the Commander, U.S. Army Human Resources Command, 1 Reserve Way, St. Louis, MO 63132-5200.

For discharged or deceased personnel, contact the National Personnel Records Center, 9700 Page Avenue, St. Louis, MO 63132-5200.

For verification purposes, individual should provide full name, service identification number, current military status, and current address.

Record access procedures:

Individuals seeking access to records about themselves contained in this record system should address written inquiries to the commander of the unit to which the Army National Guard member is assigned.

For separated personnel, information may be obtained from the Commander, U.S. Army Human Resources Command, 1 Reserve Way, St. Louis, MO 63132-5200.

For discharged or deceased personnel, contact the National Personnel Records Center, 9700 Page Avenue, St. Louis, MO 63132-5200.

For verification purposes, individual should provide full name, service identification number, current military status, and current address.

For personal visits, the requester should provide acceptable identification, i.e., military identification card or other identification normally acceptable in the transaction of business.

Contesting record procedures:

The Army's rules for accessing records, and for contesting contents and appealing initial agency determinations are contained in Army Regulation 340-21; 32 CFR part 505; or may be obtained from the system manager.

Record source categories:

From the individual, educational and financial institutions, law enforcement agencies, personal references provided by the individual, Army records and reports, third parties when information furnished relates to the service member's status.

Exemptions claimed for the system:

None.

A0600-8-104b TAPC

System name:

Official Military Personnel Record (December 11, 2001, 66 FR 64023).

Changes:

* * * * *

System manager(s) and address:

Replace ‘U.S. Total Army Personnel Command’ with ‘U.S. Army Human Resources Command’.

* * * * *

A0600-8-104b TAPC

System name:

Official Military Personnel Record.

System location:

U.S. Army Human Resources Command, 200 Stovall Street, Alexandria, VA 22332-0400 for active Army officers.

U.S. Army Enlisted Records and Evaluation Center, 8899 East 56th Street, Fort Benjamin Harrison, IN 46249-5301 for active duty enlisted personnel.

U.S. Army Human Resources Command, 9700 Page Avenue, St Louis, MO 63132-5200 for reserve personnel.

National Personnel Records Center, National Archives and Records Administration, 9700 Page Avenue, St Louis, MO 63132-5100, for discharged or deceased personnel.

An automated index exists at the U.S. Army Human Resources Command showing physical location of the Official Military Personnel of retired, separated and files on all service members returned to active duty.

National Guard Bureau, Army National Guard Readiness Center, 111 South George Mason Drive, Arlington, VA 22204-1382, for commissioned, warrant officer or enlisted soldier in the Army National Guard.

Categories of individuals covered by the system:

Active duty members of the U.S. Army and Army National Guard not on active duty, who are enlisted, appointed, or commissioned status; members of the U.S. Army who were enlisted, appointed, or commissioned and were separated by discharge, death, or other termination of military status.

Categories of records in the system:

Records include enlistment contract; Department of Veterans Affairs benefit forms; physical evaluation board proceedings; military occupational specialty data; statement of service; qualification record; group life insurance election; emergency data; application for appointment; qualification/evaluation report; oath of office; medical examination; security clearance questionnaire; application/memo for retired pay; application for correction of military records; field/application for active duty; transfer or discharge report/Certificate of Release or Discharge from Active Duty; active duty report; voluntary reduction; line of duty and misconduct determinations; discharge or separation reviews; police record checks, consent/declaration of parent/guardian; Army Reserve Officers Training Corps supplemental agreement; award recommendations; academic reports; line of duty casualty report; U.S. field medical card; retirement points, deferment; pre-induction processing and commissioning data; transcripts of military records; summary sheets review of conscientious objector; election of options; oath of enlistment; enlistment extensions; survivor benefit plans; efficiency reports; records of proceeding, 10 U.S.C. section 815 appellate actions; determinations of moral eligibility; waiver of disqualifications; temporary disability record; change of name; statements for enlistment; acknowledgments of service requirements; retired benefits; application for review by physical evaluation board and disability board; appointments; designations; evaluations; birth certificates; photographs; citizenship statements and status; educational constructive credit transcripts; flight status board reviews; assignment agreements, limitations/waivers/election and travel; efficiency appeals; promotion/reduction/recommendations, approvals/declinations announcements/notifications, reconsiderations/worksheets elections/letters or memoranda of notification to deferred officers and promotion passover notifications; absence without leave and desertion records; FBI reports; Social Security Administration correspondence; miscellaneous correspondence, documents, and military orders relating to military service including information pertaining to dependents, interservice action, in-service details, determinations, reliefs, component; awards, pay entitlement, released, transfers, and other military service data.

Authority for maintenance of the system:

10 U.S.C. 3013, Secretary of the Army; 42 U.S.C. 10606; DoD Instruction 1030.1, Victim and Witness Assistance; Army Regulation 600-8-104, Military Personnel Information Management/Records; and E.O. 9397 (SSN).

Purpose(s):

These records are created and maintained to manage the member's Army and Army National Guard service effectively, to document historically a member's military service, and safeguard the rights of the member and the Army.

Routine use of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of State to issue passport/visa; to document persona-non-grata status, attaché assignments, and related administration of personnel assigned and performing duty with the Department of State.

To the Department of Treasury to issue bonds; to collect and record income taxes.

To the Department of Justice to file fingerprints to perform investigative and judicial functions.

To the Department of Agriculture to coordinate matters related to its advanced education program.

To the Department of Labor to accomplish actions required under Federal Employees Compensation Act.

To the Department of Health and Human Services to provide services authorized by medical, health, and related functions authorized by 10 U.S.C. 1074 through 1079.

To the Nuclear Regulatory Commission to accomplish requirements incident to Nuclear Accident/Incident Control Officer functions.

To the American Red Cross to accomplish coordination and service functions including blood donor programs and emergency investigative support and notifications.

To the Civil Aeronautics Board to accomplish flight qualifications, certification and licensing actions.

To the Federal Aviation Agency to determine rating and certification (including medical) of in-service aviators.

To the U.S. Postal Service to accomplish postal service authorization involving postal officers and mail clerk authorizations.

To the Department of Veterans Affairs:

1. To provide information relating to service, benefits, pensions, in-service loans, insurance, and appropriate hospital support.

2. To provide information relating to authorized research projects.

To the Bureau of Immigration and Naturalization to comply with status relating to alien registration, and annual residence/location.

To the Office of the President of the United States of America to exchange required information relating to White House Fellows, regular Army promotions, aides, and related support functions staffed by Army members.

To the Federal Maritime Commission to obtain licenses for military members accredited as captain, mate, and harbor master for duty as Transportation Corps warrant officer.

To each of the several states, and U.S. possessions to support state bonus application; to fulfill income tax requirements appropriate to the service member's home of record; to record name changes in state bureaus of vital statistics; and for National Guard affairs.

Civilian educational and training institutions to accomplish student registration, tuition support, graduate record examination tests, and related requirements incident to in-service education programs in compliance with 10 U.S.C. chapters 102 and 103.

To the Social Security Administration to obtain or verify Social Security Number, to transmit Federal Insurance Compensation Act deductions made from members' wages.

To the Department of Transportation to coordinate and exchange necessary information pertaining to inter-service relationships between U.S. Coast Guard (USCG), U.S. Army, and Army National Guard when service members perform duty with the USCG.

To the Civil authorities for compliance with 10 U.S.C. 814.

To the U.S. Information Agency to investigate applicants for sensitive positions pursuant to E.O. 10450.

To the Federal Emergency Management Agency to facilitate participation of Army members in civil defense planning training, and emergency operations pursuant to the military support of civil defense as prescribed by DoD Directive 3025.10, Military Support of Civil Defense, and Army Regulation 500-70, Military Support of Civil Defense.

To the Director of Selective Service System to Report of Non-registration at Time of Separation Processing, of individuals who decline to register with Selective Service System. Such report will contain name of individual, date of birth, Social Security Number, and mailing address at time of separation.

Other elements of the Federal Government pursuant to their respective authority and responsibility.

Note: Record of the identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974, in regard to accessibility of such records except to the individual to whom the record pertains. The DoD ‘Blanket Routine Uses’ set forth at the beginning of the Army's compilation of systems of records notices do not apply to these categories of records.

To victims and witnesses of a crime for purposes of providing information, consistent with the requirements of the Victim and Witness Assistance Program, regarding the investigation and disposition of an offense.

To Federal agencies, their contractors and grantees, and to private organizations, such as the National Academy of Sciences, for the purposes of conducting personnel and/or health-related research in the interest of the Federal government and the public. When not considered mandatory, the names and other identifying data will be eliminated from records used for such research studies.

The DoD ‘Blanket Routine Uses’ set forth at the beginning of the Army's compilation of systems of records notices also apply to this system, except for those specifically excluded categories of records.

Policies and practices for storing, retrieving, accessing, retaining, and disposing of records in the system:

Storage:

Paper records in file folders and on electronic storage media and fiche.

Retrievability:

By Social Security Number and name.

Safeguards:

Records are maintained in areas accessible only to authorized personnel; automated records are further protected by authorized password system for access terminals, controlled access to operations locations, and controlled output distribution.

Retention and disposal:

Microfiche and paper records are permanent. They are retained in active file until termination of service, following which they are retired to the U.S. Army Human Resources Command, 1 Reserve Way, St. Louis, MO 63132-5200.

System manager(s) and address:

Commander, U.S. Army Human Resources Command, 200 Stovall Street, Alexandria, VA 22332-0400.

Director, National Guard Bureau, Army National Guard Readiness Center, 111 South George Mason Drive, Arlington, VA 22204-1382.

Commander, U.S. Army Human Resources Command, 1 Reserve Way, St. Louis, MO 63132-5200.

Notification procedure:

Individuals seeking to determine if information about themselves is contained in this record system should address written inquiries to the following:

Inquiries for records of commissioned or warrant officers (including members of Reserve Components) serving on active duty should be sent to the Commander, U.S. Army Human Resources Command, 200 Stovall Street, Alexandria, VA 22332-0400.

Inquiries for records of enlisted members (including members of Reserve Components) serving on active duty should be sent to: Commander, U.S. Army Enlisted Records and Evaluation Center, 8899 East 56th Street, Fort Benjamin Harrison, IN 46249-5301.

Inquiries for records of commissioned officers or warrant officers in a reserve status not on active duty, or Army enlisted reservists not on active duty, or members of the National Guard who performed active duty, or commissioned officers, warrant officers, or enlisted members in a retired status should be sent to the Commander, U.S. Army Human Resources Command, 1 Reserve Way, St. Louis, MO 63132-5200.

Inquiries for records of commissioned officers and warrant officers who were completely separated from the service after June 30, 1917, or enlisted members who were completely separated after October 31, 1912, or for records of deceased Army personnel should be sent to the Chief, National Personnel Records Command, National Archives and Records Administration, 9700 Page Avenue, St. Louis, MO 63132-5200.

Inquiries for records of National Guard should be sent to the Director, National Guard Bureau, Army National Guard Readiness Center, 111 South George Mason Drive, Arlington, VA 22204-1382.

Individual should provide the full name, Social Security Number, service identification number, military status, and current address.

Record access procedures:

Individuals seeking access to records about themselves contained in this record system should address written inquiries to the following:

Inquiries for records of commissioned or warrant officers (including members of Reserve Components) serving on active duty should be sent to the Commander, U.S. Army Human Resources Command, 200 Stovall Street, Alexandria, VA 22332-0400.

Inquiries for records of enlisted members (including members of Reserve Components) serving on active duty should be sent to: Commander, U.S. Army Enlisted Records and Evaluation Center, 8899 East 56th Street, Fort Benjamin Harrison, IN 46249-5301.

Inquiries for records of commissioned officers or warrant officers in a reserve status not on active duty, or Army enlisted reservists not on active duty, or members of the National Guard who performed active duty, or commissioned officers, warrant officers, or enlisted members in a retired status should be sent to the Commander, U.S. Army Human Resources Command, 1 Reserve Way, St. Louis, MO 63132-5200.

Inquiries for records of commissioned officers and warrant officers who were completely separated from the service after June 30, 1917, or enlisted members who were completely separated after October 31, 1912, or for records of deceased Army personnel should be sent to the Chief, National Personnel Records Center, National Archives and Records Administration, 9700 Page Avenue, St. Louis, MO 63132-5200.

Inquiries for records of National Guard should be sent to the Director, National Guard Bureau, Army National Guard Readiness Center, 111 South George Mason Drive, Arlington, VA 22204-1382.

Individual should provide the full name, Social Security Number, service identification number, military status, and current address.

Contesting record procedures:

The Army's rules for accessing records, and for contesting contents and appealing initial agency determinations are contained in Army Regulation 340-21; 32 CFR part 505; or may be obtained from the system manager.

Record source categories:

From the individual, enlistment appointment or commission related forms pertaining to individual's military status; educational and financial institutions, training or qualifications records acquired prior to or during military services; law enforcement agencies, references provided by individuals, Army records and reports, correspondence, forms, documents and other relevant papers, third parties and members of the public when information furnished relates to the service member's status.

Exemptions claimed for the system:

None.

A0600-8-104g TAPC

System name:

Career Management Individual and Dual Component Personnel Files (December 4, 2001, 66 FR 63046).

Changes:

System identifier:

Delete entry and replace with ‘A0600-8-104g AHRC’.

* * * * *

System manager(s) and address:

Replace ‘U.S. Total Army Personnel Command” with ‘U.S. Army Human Resources Command’.

* * * * *

A0600-8-104g AHRC

System name:

Career Management Individual and Dual Component Personnel Files.

System location:

U.S. Army Human Resources Command, 200 Stovall Street, Alexandria, VA 22332-0474. Decentralized segments exist at the General Officer Management Office, Judge Advocate General's Office, the Chief of Chaplains Office, and the Medical Service Corps. Official mailing addresses may be obtained from U.S. Army Human Resources Command.

Dual Component Personnel files are located at the U.S. Army Human Resources Command, 1 Reserve Way, St. Louis, MO 63132-5200.

Categories of individuals covered by the system:

Active Army members in enlisted grades E-5 through E-9, all warrant and commission officers.

Any reserve or warrant officer on active duty as a regular Army enlisted; any reserve officer on active duty as a regular Army warrant officer. All reserve officers, warrant officers, and enlisted members.

Categories of records in the system:

Name, rank, Social Security Number, basic entry date, promotion eligibility date; orders; record briefs; statements of preference; school credit papers; transcripts; details; career personnel actions; correspondence from individual concerned; original copy of efficiency report; academic reports; qualification records; appeal actions; assignment memoranda and requests for orders; memoranda concerning professional development actions; mandatory removal date; classification data; general orders concerning service awards; service agreements; variable incentive pay data; memoranda of interviews; assignment applications; resumes of qualifications, personal background and experience supporting service member's desires, nominative action by career managers; academic reports; copies of admonition/reprimands imposed under Article 15, UCMJ, letters of appreciation/commendation/recommendation; reports/letters from accredited educational and training organizations; and similar documents, records and reports.

Authority for maintenance of the system:

10 U.S.C. 3013, Secretary of the Army; Army Regulation 600-39, Dual Component Personnel Management Program; Army Regulation 600-8-104, Military Personnel Information Management/Records; and E.O. 9397 (SSN).

Purpose(s):

To manage member's Army career, when they will be considered for promotion; military education that needs to be completed for eligibility, including assignments, counseling, and monitoring professional development.

Specific only to Dual Component members: To make determinations if officer should be removed for substandard performance of duty; to advise of eligibility for retirement as either an officer of enlisted person and to apprise individuals of changes in the reserve program affecting them.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and on magnetic tapes and electronic storage media.

Retrievability:

By individual's surname and/or Social Security Number.

Safeguards:

Records are restricted to officially designated individuals in the performance of their assigned duties. Automated data are stored in vaults in secure buildings.

Retention and disposal:

Career branch individual files disposition pending until National Archives and Records Administration is approved, treat as permanent.

Reserve officer career management files are forwarded with the individual's personnel file when transferred to Army Reserve, entry to active duty National Guard, Standby or Retired Reserve, however, upon final separation the records are destroyed.

System manager(s) and address:

Commander, U.S. Army Human Resources Command, 200 Stovall Street, Alexandria, VA 22332-0474.

Commander, U.S. Army Human Resources Command, 1 Reserve Way, St. Louis, MO 63132-5200 for Dual Component individuals.

Notification procedure:

Individuals seeking to determine if information about themselves is contained in this record system should address written inquiries to the following:

For information concerning general officers: General Officer Management Office, 200 Army Pentagon, ATTN: Chief of Staff, Washington, DC 20310-0200.

For information concerning chaplains: Chief of Chaplains, 200 Army Pentagon, Room 1E417, Washington, DC 20310-0200.

For information concerning officers of The Judge Advocate General Corps: The Judge Advocate General, 200 Army Pentagon, Washington, DC 20310-0200.

For information pertaining to all other soldiers: Commander, U.S. Army Human Resources Command, 200 Stovall Street, Alexandria, VA 22332-0474. Individuals should designate Officer or Enlisted status.

For information concerning dual component personnel: Commander, U.S. Army Human Resources Command, 1 Reserve Way, St. Louis, MO 63132-5200.

Individual should provide the full name, Social Security Number, service identification number, military occupational specialty, military status, current home address and telephone number, and signature.

Record access procedures:

Individuals seeking access to records about themselves contained in this record system should address written inquiries to the following:

For information concerning general officers: General Officer Management Office, 200 Army Pentagon, ATTN: Chief of Staff, Washington, DC 20310-0200.

For information concerning chaplains: Chief of Chaplains, 200 Army Pentagon, Room 1E417, Washington, DC 20310-0200.

For information concerning officers of The Judge Advocate General Corps: The Judge Advocate General, 200 Army Pentagon, Washington, DC 20310-0200.

For information pertaining to all other soldiers: Commander, U.S. Army Human Resources Command, 200 Stovall Street, Alexandria, VA 22332-0474. Individuals should designate Officer or Enlisted status.

For information concerning dual component personnel: Commander, U.S. Army Human Resources Command, 1 Reserve Way, St. Louis, MO 63132-5200 Individual should provide the full name, Social Security Number, service identification number, military occupational specialty, military status, current home address and telephone number, and signature.

Contesting record procedures:

The Army's rules for accessing records and for contesting contents and appealing initial agency determinations are contained in Army Regulation 340-21; 32 CFR part 505; or may be obtained from the system manager.

Record source categories:

From the individual; Army records; reports; enlistment, appointment, or commission related forms pertaining to the service member having a current active duty status; academic, training, and qualifications records acquired incident to military service; correspondence, forms, documents and other related papers originating in or collected by the military department for management purposes.

Exemptions claimed for the system:

None.

A0600o TAPC

System name:

Army Career and Alumni Program (ACAP XXI) (September 11, 2001, 66 FR 47181).

Changes:

System identifier:

Delete entry and replace with ‘A0600o AHRC’.

* * * * *

Authority for maintenance of the system:

Add to entry ‘10 U.S.C. 3013, Secretary of the Army’.

* * * * *

System manager(s) and address:

Replace ‘U.S. Total Army Personnel Command’ with ‘U.S. Army Human Resources Command’.

* * * * *

A0600o AHRC

System name:

Army Career and Alumni Program (ACAP XXI).

System location:

Primary location: Headquarters, U.S. Army Human Resources Command, ATTN: AHRC-PDT-O, 200 Stovall Street, Alexandria, VA 22332-0476.

Secondary locations: Army Career and Alumni Program Centers. A complete list of ACAP centers may be obtained by writing to the system manager.

Categories of individuals covered by the system:

Department of Defense military personnel (Active/reserve duty) and their spouses; U.S. Coast Guard personnel and their spouses; Department of Defense civilian employees and their spouses; U.S. Army National Guard personnel and their spouses; DoD personnel who retired no earlier than ninety (90) days prior to the date they requested ACAP services; and widows and widowers of deceased active duty military personnel.

Categories of records in the system:

Files contain individual's name, home address, Social Security Number, date of birth, job qualifications, DD Form 2648 (Pre-Separation Counseling Checklist), and similar or pre-separation/transition counseling related documents.

Authority for maintenance of the system:

5 U.S.C. 301, Departmental Regulations; 10 U.S.C. 3013, Secretary of the Army, 10 U.S.C., Chapter 58; DoD Directive 1332.35; and E.O. 9397 (SSN).

Purpose(s):

To provide transition planning/counseling for individuals so that they may re-enter the civilian job market.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Information is stored electronically on computers and on paper in file folders.

Retrievability:

By name or Social Security Number.

Safeguards:

All records are maintained in secured areas, accessible only to designated personnel whose official duties require they have access. The personal computer system can only be accessed through a system of passwords known only to the individual and the system administrator/supervisor. Paper files are secured in locked file cabinets. The areas where the personal computer and paper files are located are secured after duty hours in locked buildings.

Retention and disposal:

Records are deleted after 90 days inactivity for individual personnel records.

System manager(s) and address:

Commander, U.S. Army Human Resources Command, ATTN: AHRC-PDT-O, 200 Stovall Street, Alexandria, VA 22332-0476.

Notification procedure:

Individuals seeking to determine whether information about themselves is contained in the system should address written inquiries to the Director of the ACAP Center where transition assistance was obtained or contact the system manager.

Requesting individual must submit full name and Social Security Number.

Record access procedures:

Individuals seeking access to records about themselves contained in this system should address written inquiries to the Director of the ACAP Center where transition assistance was obtained or contact the system manager.

Requesting individual must submit full name and Social Security Number.

Contesting record procedures:

The Army's rules for accessing records, and for contesting contents and appealing initial agency determinations are contained in Army Regulation 340-21; 32 CFR part 505; or may be obtained from the system manager.

Record source categories:

From the individual, Army records and reports, and the U.S. Coast Guard records.

Exemptions claimed for the system:

None.

A0601-100 TAPC

System name:

Officer Appointment Files (April 20, 2001, 66 FR 20280).

Changes:

System identifier:

Delete entry and replace with ‘A0600-100 AHRC’.

* * * * *

System manager(s) and address:

Replace ‘U.S. Total Army Personnel Command’ with ‘U.S. Army Human Resources Command’.

* * * * *

A0601-100 AHRC

System name:

Officer Appointment Files.

System location:

Commander, U.S. Army Human Resources Command, Chief, Officer Records Branch, 200 Stovall Street, Alexandria, VA 22332-0400.

Secondary locations: Army installations and commands. Official mailing addresses are published as an appendix to the Army's compilation of record systems notices.

Categories of individuals covered by the system:

Applicants for appointment in the U.S. Army or U.S. Army Reserves.

Categories of records in the system:

Individual applications for appointment as a warrant or commissioned officer, evaluation reports, supplemental information regarding qualifications, notification of acceptance/rejection and similar relevant documents and reports.

Authority for maintenance of the system:

10 U.S.C. 3013, Secretary of the Army; Army Regulation 601-100, Appointment of Commissioned and Warrant Officers in the Regular Army; and E.O. 9397 (SSN).

Purpose(s):

To determine acceptability of applicants into the Army officer ranks.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders stored in file cabinets on microfiche and electronic storage media.

Retrievability:

By individual's surname and Social Security Number.

Safeguards:

Records are maintained in secured areas and secured buildings accessible only to designated individuals having official need thereof in the performance of their duties.

Retention and disposal:

Inquiry and eligibility files retain and destroy after 2 years. Appointment application records destroy after 1 year. Appointment selection board records retain for 3 years then destroy. Appointment lists retain and destroy after 2 years.

System manager(s) and address:

Commander, U.S. Army Human Resources Command, Officer Records Branch, 200 Stovall Street, Alexandria, VA 22332-0400.

Notification procedure:

Individuals seeking to determine if information about themselves is contained in this record system should address written inquiries to the Army installation in which application was sent or to the Commander, U.S. Army Human Resources Command, Officer Records Branch, 200 Stovall Street, Alexandria, VA 22332-0400.

Individual should provide the full name, Social Security Number, date of application, place to which sent, and any other information that will assist in locating the record.

Record access procedures:

Individuals seeking access to records about themselves contained in this record system should address written inquiries to the Army installation in which application was sent or to the Commander, U.S. Army Human Resources Command, Officer Records Branch, 200 Stovall Street, Alexandria, VA 22332-0400.

Individual should provide the full name, Social Security Number, date of application, place to which sent, and any other information that will assist in locating the record.

Contesting record procedures:

The Army's rules for accessing records, and for contesting contents and appealing initial agency determinations are contained in Army Regulation 340-21; 32 CFR part 505; or may be obtained from the system manager.

Record source categories:

From the individual; extracts from personnel records; forms, documents, and related papers originated by or received in Army offices.

Exemptions claimed for the system:

None.

A0601-210 TAPC

System name:

Army Recruiting Prospect System (February 22, 1993, 58 FR 10146).

Changes:

System identifier:

Delete entry and replace with ‘A0601-210 AHRC’.

* * * * *

A0601-210 AHRC

System name:

Army Recruiting Prospect System.

System location:

Army recruiting stations, brigades, and divisions; addresses may be obtained from the Commander, U.S. Army Recruiting Command, Fort Knox, KY 40121-5000. Enlistment inquiries generated by public advertising and follow-up data are maintained by Army contractor Market Compilation and Research Bureau, Inc.

Categories of individuals covered by the system:

Prospects for Army enlistment, individuals who have asked to be excluded from Army promotional mailing, third parties who refer names of prospects to recruiters or who are influential in the recruiting effort.

Categories of records in the system:

Name, Social Security Number, home address and telephone number, schools attended, arrest record, names and addresses of prospective enlistee. On acceptance, applicant's record includes information furnished by the Military Enlistment Processing Command reflecting examination results. Also included are name, address and/or telephone number of third parties who are influential in the recruiting program, e.g., city/state officials, Chamber of Commerce members, university/college/high school staff and faculty.

Authority for maintenance of the system:

10 U.S.C. 503, 504, 510 and 3013; and E.O. 9397 (SSN).

Purpose(s):

These records are used by the Department of the Army: (1) To review an individual's potential for enlisting; (2) to obtain school quotas for potential enlistee's skills, educational/assignment preferences and objectives; (3) to monitor recruiter performance; (4) for personnel management, statistical, and historical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records, cards, magnetic tapes, mini-diskettes/discs.

Retrievability:

By name or Social Security Number of the prospective enlistee, inquirer, recruiter, or third party referring agent.

Safeguards:

Information in this system is maintained in locked storage areas available only to designated individuals having need therefore in the performance of official duties. Personal information on prospects which is entered into the Joint Optical Information Network—a stand-alone data processor—restricts access to specially assigned recruiter ID/program codes. Administrative, physical and technical safeguards employed by the Recruiting Command and its contractor are commensurate with the sensitivity of personal data to ensure preservation of integrity and to preclude unauthorized use/disclosure.

Retention and disposal:

Information furnished by a prospective enlistee is retained until 3 months following end of enlistee's initial term of service, after which it is destroyed or erased; information concerning individuals who provide names of prospects is retained until no longer needed; information on prospects not enlisted is destroyed/erased at the end of each calendar year following that in which collected.

System manager(s) and address:

Deputy Chief of Staff for Personnel, Headquarters, Department of the Army, 4000 Army Pentagon, Washington, DC 20310-4000.

Notification procedure:

Individuals wishing to inquire whether this system contains information about them should write to the commander of the recruiting station to which information was provided, or to the Commander, U.S. Army Recruiting Command, Fort Knox, KY 40121-5000.

Individual must provide full name, Social Security Number, details that will assist in locating the records, and signature.

Record access procedures:

Individuals seeking access to information from this system should address requests to the commander of the recruiting station to which information was provided, or to the Commander, U.S. Army Recruiting Command, Fort Knox, KY 40121-5000.

Individual must provide full name, Social Security Number, details that will assist in locating the records, and signature.

Contesting record procedures:

The Army's rules for access to records and for contesting contents and appealing initial agency determinations are contained in Army Regulation 340-21; 32 CFR part 505; or may be obtained from the system manager.

Record source categories:

From the individual, high school officials/yearbooks/directories, law enforcement agencies, third parties who provide prospect leads, relevant Army records/reports, influential community officials.

Exemptions claimed for the system:

None.

TAPC

System name:

Qualitative Management Program Appeal File (April 13, 2001, 66 FR 19153).

Changes:

System identifier:

Delete entry and replace with ‘A0601-280a AHRC’.

* * * * *

A0601-280a AHRC

System name:

Qualitative Management Program Appeal File.

System location:

Active Duty Army and Active Army Reserve records are located at U.S. Army Enlisted Records and Evaluation Center, 8899 East 56th Street, Indianapolis, IN 46249-5301.

Active National Guard Reserve records are located at the Commander, U.S. Army Human Resources Command, 1 Reserve Way, St. Louis, MO 63132-5200.

Categories of individuals covered by the system:

Active Duty Army, full time Active National Guard Reserve and Active Army Reserve enlisted members in the grades of E-6 through E-9 who have appealed a bar to reenlistment.

Categories of records in the system:

File contains name, Social Security Number, pay grade, date of rank, basic active service date, estimated termination of service, primary and secondary military occupational specialties, bar to reenlistment letter/memorandum, appeal to bar to reenlistment and associated documentation, final determination of appeal by Reenlistment Appeals Board, enlisted efficiency reports, selected data elements pertaining to service record of appellant and similar relevant documents.

Authority for maintenance of the system:

10 U.S.C. 3013, Secretary of the Army; Army Regulation 635-200, Personnel Separation/Enlisted Personnel; Army Regulation 601-280, Army Retention Program; E.O. 9397 (SSN).

Purpose(s):

Records in this system are used for the management of personnel and manpower in order to deny continued service to non-productive enlisted soldiers and retain quality enlisted soldiers in the Army and to encourage soldiers to maintain eligibility for further service. Records in this system are used for the management of personnel, year group, and manpower, in order to retain quality soldiers in the Army.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By individual's name and Social Security Number.

Safeguards:

Records are protected by physical security devices, guards, and personnel clearances for individuals working with the system.

Retention and disposal:

Approved certificate to bar reenlistment and approved recommendation to withdraw bar to reenlistment are filed in permanent section of the Military Personnel Records Jacket in accordance with prescribed regulations. Bar to reenlistment certificates for which total withdrawal has been approved are removed from the Military Personnel Records Jacket and destroyed. Documents used to determine reenlistment eligibility including entries transferred from personnel records, remarks by commander, additional documentation of interviews and similar information is forwarded with Military Personnel Records Jacket in accordance with prescribed regulations, destroy on reenlistment of individual.

System manager(s) and address:

Commander, U.S. Army Enlisted Records and Evaluation Center, 8899 East 56th Street, Indianapolis, IN 46249-5301 for matters concerning Active Duty Army and Active Army Reserve Commander, U.S. Army Human Resources Command, 1 Reserve Way, St. Louis, MO 63132-5200 for matters concerning Active National Guard Reserve.

Notification procedure:

Individuals seeking to determine if information about themselves is contained in this record system should address written inquiries to the Commander, U.S. Army Enlisted Records and Evaluation Center, 8899 East 56th Street, Indianapolis, IN 46249-5301 for matters concerning Active Duty Army and Active Army Reserve; and to the Commander, U.S. Army Human Resources Command, 1 Reserve Way, St. Louis, MO 63132-5200 for matters concerning Active National Guard Reserve.

Individual should provide the full name, Social Security Number, grade, and current address.

Record access procedures:

Individuals seeking access to records about themselves contained in this record system should address written inquiries to the Commander, U.S. Army Enlisted Records and Evaluation Center, 8899 East 56th Street, Indianapolis, IN 46249-5301 for matters concerning Active Duty Army and Active Army Reserve; and to the Commander, U.S. Army Human Resources Command, 1 Reserve Way, St. Louis, MO 63132-5200 for matters concerning Active National Guard Reserve.

Individual should provide the full name, Social Security Number, grade, and current address.

Contesting record procedures:

The Army's rules for accessing records, and for contesting contents and appealing initial agency determinations are contained in Army Regulation 340-21; 32 CFR part 505; or may be obtained from the system manager.

Record source categories:

From Army records and reports; from appellant.

Exemptions claimed for the system:

None.

A0601-280b TAPC

System name:

Selective Reenlistment Bonus (April 13, 2001, 66 FR 19153).

Changes:

System identifier:

Delete entry and replace with ‘A0601-280b AHRC’.

* * * * *

System manager(s) and address:

Replace ‘U.S. Total Army Personnel Command’ with ‘U.S. Army Human Resources Command’.

* * * * *

A0601-280b AHRC

System name:

Selective Reenlistment Bonus.

System location:

U.S. Army Human Resources Command, Selective Reenlistment Bonus Manager, 2461 Eisenhower Avenue, Alexandria, VA 22332-0451.

Categories of individuals covered by the system:

Enlisted soldiers in grades E-1 through E-9 who have submitted a request for a selective reenlistment bonus.

Categories of records in the system:

Name, Social Security Number, grade, Military Occupational Specialty, documentation substantiating request for accelerated payment, advisory recommendation for Army Board for Correction of Military Records consideration, and similar relevant documentation.

Authority for maintenance of the system:

10 U.S.C. 3013, Secretary of the Army; Army Regulation 601-280, Army Retention Program; and E.O. 9397 (SSN).

Purpose(s):

To determine service member's qualification for selective reenlistment bonuses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By individual's surname and fiscal year.

Safeguards:

Records are maintained in areas accessible only to authorized personnel within the performance of their duties. Records are in a secured office within a secured building.

Retention and disposal:

Records are destroyed upon reenlistment of individual.

System manager(s) and address:

Commander, U.S. Army Human Resources Command, Selective Reenlistment Bonus Manager, 2461 Eisenhower Avenue, Alexandria, VA 22331-0451.

Notification procedure:

Individuals seeking to determine if information about themselves is contained in this record system should address written inquiries to the Commander, U.S. Army Human Resources Command, Selective Reenlistment Bonus Manager, 2461 Eisenhower Avenue, Alexandria, VA 22331-0451.

Individual should provide the full name, Social Security Number, and current address.

Record access procedures:

Individuals seeking access to records about themselves contained in this record system should address written inquiries to the Commander, U.S. Army Human Resources Command, Selective Reenlistment Bonus Manager, 2461 Eisenhower Avenue, Alexandria, VA 22331-0451.

Individual should provide the full name, Social Security Number, and current address.

Contesting record procedures:

The Army's rule for accessing records, and for contesting contents and appealing initial agency determinations are contained in Army Regulation 340-21; 32 CFR part 505; or may be obtained from the system manager.

Record source categories:

From the individual, personnel records, other Army records and reports.

Exemptions claimed for the system:

None.

A0602 TAPC-ARI

System name:

Behavioral and Social Sciences Research Project Files (October 18, 1999, 64 FR 56196).

Change:

System identifier:

Delete entry and replace with ‘A0602 AHRC-ARI’.

* * * * *

A0602 AHRC-ARI

System name:

Behavioral and Social Sciences Research Project Files.

System location:

U.S. Army Research Institute for the Behavioral and Social Sciences, 5001 Eisenhower Avenue, Alexandria, VA 22333-5600 and field offices located at Fort Benning, GA; Boise, ID; Mannheim, Germany; Naval Training Center, Orlando, FL; Fort Hood, TX; Fort Knox, KY; Fort Leavenworth, KS; Fort Bragg, NC; and Fort Rucker, AL. Official mailing addresses are published as an appendix to the Army's compilation of record system notices.

Categories of individuals covered by the system:

Current and former officer, warrant officer, and enlisted military personnel, including Army Reservists and National Guard; family members of the above service members; civilian employees of Department of Defense; and samples of civilians from the general U.S. population who are surveyed to determine why people do or do not consider military service as a career or a short-term employment option.

Categories of records in the system:

Service member: Individual's name and Social Security Number, Army personnel records and questionnaire-type data relating to service member's pre-service education, work experience and social environment and culture, learning ability, physical performance, combat readiness, discipline, motivation, attitude about Army life, and measures of individual and organizational adjustments; test results from Armed Services Vocational Aptitude Battery and Skill Qualification Tests.

Non-service member: Individual's name and Social Security Number, and questionnaire type data relating to non-service member's education, work experience, motivation, knowledge of and attitude about the Army. When records show military service or marriage to a service member, the appropriate non-service records will be linked to the service record.

Authority for maintenance of the system:

5 U.S.C. 301, Departmental Regulations; 10 U.S.C. 3013, Secretary of the Army; 10 U.S.C. 2358, Research and Development Projects; and E.O. 9397 (SSN).

Purpose(s):

To research manpower, personnel, and training dimensions inherent in the recruitment, selection, classification, assignment, evaluation, and training of military personnel; to enhance readiness effectiveness of the Army by developing personnel management methods, training devices, and testing of weapons methods and systems aimed at improved group performance. (No decisions affecting an individual's rights or benefits are made using these research records).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders, CD ROM; computer disks, and magnetic tape.

Retrievability:

By individual's name and/or Social Security Number. For research purposes, the data are usually retrieved and analyzed with respect to relative times of entry into service, training performance, and demographic values. Scheduled data for follow-up data collections however, are retrieved by month of scheduled follow-up and by name.

Safeguards:

Access to records is restricted to authorized personnel having official need therefore. Automated data are further protected by controlled system procedures and code numbers governing access.

Retention and disposal:

Information is retained until completion of appropriate study or report, after which it is destroyed by shredding or erasing.

System manager(s) and address:

Director, U.S. Army Research Institute for Behavioral and Social Sciences, ATTN: AHRC-ARI-ASZ, 5001 Eisenhower Avenue, Alexandria, VA 22333-5600.

Notification procedure:

Individuals seeking to determine if information about themselves is contained in this record system should address written inquiries to the Director, U.S. Army Research Institute for Behavioral and Social Sciences, ATTN: AHRC-ARI-ASZ, 5001 Eisenhower Avenue, Alexandria, VA 22333-5600.

Individual should provide the full name, Social Security Number, current address, subject area, and the year of survey, if known.

Record access procedures:

Individuals seeking access to records about themselves contained in this record system should address written inquiries to the Director, U.S. Army Research Institute for Behavioral and Social Sciences, ATTN: AHRC-ARI-ASZ, 5001 Eisenhower Avenue, Alexandria, VA 22333-5600.

Individual should provide the full name, Social Security Number, current address, subject area, and the year of survey, if known.

Contesting record procedures:

The Army's rules for accessing records, and for contesting contents and appealing initial agency determinations are contained in Army Regulation 340-21; 32 CFR part 505; or may be obtained from the system manager.

Record source categories:

From the individual, his or her peers, or, in the case of ratings and evaluations, from supervisors.

Exemptions claimed for the system:

None.

A0608 TAPC

System name:

Personal Affairs Files (April 12, 1999, 64 FR 16947).

Changes:

System identifier:

Delete entry and replace with ‘A0608 AHRC’.

* * * * *

Authority for maintenance of the system:

Delete from entry ‘5 U.S.C. 301, Departmental Regulations’.

* * * * *

System manager(s) and address:

Replace ‘U.S. Total Army Personnel Command’ with ‘U.S. Army Human Resources Command’.

* * * * *

A0608 AHRC

System name:

Personal Affairs Files.

System location:

Decentralized to major commands, installations, and activities. Official mailing addresses are published as an appendix to the Army's compilation of record systems notices.

Categories of individuals covered by the system:

Army officers, warrant officers, and enlisted personnel on active duty.

Categories of records in the system:

Third party inquiries pertaining to such matters as dependent assistance, indebtedness, non-support, paternity claims, and marriage in overseas areas.

Authority for maintenance of the system:

10 U.S.C. 3013, Secretary of the Army.

Purpose(s):

To review and answer inquiries concerning personal affairs of service members; e.g., dependent assistance, indebtedness, non-support, paternity claims, marriage in overseas areas, and similar matters that originate from third parties.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders.

Retrievability:

By service member's surname.

Safeguards:

Records are available only to designated persons having official need therefore in the performance of their duties. Records are kept in secure office areas.

Retention and disposal:

Retained for 2 years.

System manager(s) and address:

Commander, U.S. Army Human Resources Command, ATTN: AHRC-PDO-IP, 200 Stovall Street, Alexandria, VA 22332-0474.

Notification procedure:

Individuals seeking to determine if information about themselves is contained in this record system should address written inquiries to the command/installation/activity where they believe inquiry was sent.

Individual should provide the full name, current address and telephone number, and sufficient details to permit locating the record.

Record access procedures:

Individuals seeking access to records about themselves contained in this record system should address written inquiries to the command/installation/activity where they believe inquiry was sent.

Individual should provide the full name, current address and telephone number, and sufficient details to permit locating the record.

Contesting record procedures:

The Army's rules for accessing records, and for contesting contents and appealing initial agency determinations are contained in Army Regulation 340-21; 32 CFR part 505; or may be obtained from the system manager.

Record source categories:

From third parties, official Army records.

Exemptions claimed for the system:

None.

A0614-100/200 USMA

System name:

Evaluation/Assignment of Academic Instructors (September 11, 2001, 66 FR 47181).

Changes:

* * * * *

Categories of records in the system:

Change Total Army Personnel Command to United States Army Human Resources Command.

* * * * *

A0614-100/200 USMA

System name:

Evaluation/Assignment of Academic Instructors.

System location:

Associate Dean for Plans and Resources, Office of the Dean, U.S. Military Academy, Dean of Academic Board, West Point, NY 10996-5000.

Categories of individuals covered by the system:

Civilian and military personnel who apply and/or serve on the Staff and Faculty, U.S. Military Academy.

Categories of records in the system:

Individual's application consisting of name, grade or position, Social Security Number, educational and professional qualifications such as the Graduate Record Examination (GRE) or Graduate Management Admission Test (GMAT); evaluations; Officer Record Briefs (military only); personnel actions; appointments; official photographs; curriculum vitae; letters of endorsement; award recommendations; assignment orders; application/acceptance for advanced civil schooling; correspondence between the U.S. Military Academy and the U.S. Army Human Resources Command; and other relevant documents.

Authority for maintenance of the system:

10 U.S.C. 3013, Secretary of the Army; 10 U.S.C. 4334, Command and Supervision; 10 U.S.C. 4337, Civilian Faculty and E.O. 9397 (SSN).

Purpose(s):

Used by the U.S. Military Academy Dean of Academic Board and department heads to assess qualifications and suitability, and manage civilian and military personnel for assignment to the Staff and Faculty, U.S. Military Academy.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records and electronic storage medium.

Retrievability:

By individual's name and Social Security Number.

Safeguards:

Information is available only to designated people who have a need-to-know.

Retention and disposal:

USMA files are maintained for 25 years in current file area, and are then destroyed.

All other offices, such as administrative offices, maintain the records in current file area for 10 years after transfer or separation of instructor, and are then destroyed

System manager(s) and address:

Associate Dean for Plans and Resources, Office of the Dean, Dean of Academic Board, West Point, NY 10996-5000.

Notification procedure:

Individuals seeking to determine if information about themselves is contained in this record system should address written inquiries to the Associate Dean for Plans and Resources, Office of the Dean, U.S. Military Academy, Dean of Academic Board, West Point, NY 10996-5000.

Individual should provide the full name, Social Security Number, sufficient details to locate records, current mailing address, and signature.

Record access procedures:

Individuals seeking access to records about themselves contained in this record system should address written inquiries to the Associate Dean for Plans and Resources, Office of the Dean, U.S. Military Academy, Dean of Academic Board, West Point, NY 10996-5000.

Individual should provide the full name, Social Security Number, sufficient details to locate records, current mailing address, and signature.

Contesting record procedures:

The Army's rules for accessing records, and for contesting contents and appealing initial agency determinations are contained in Army Regulation 340-21; 32 CFR part 505; or may be obtained from the system manager.

Record source categories:

From the individual; official Army or other Service records; academic institutions; letters of endorsement from third parties; U.S. Army Military Personnel Center; similar relevant documents.

Exemptions claimed for the system:

None.

A0680-31b TAPC

System name:

Enlisted Personnel Management Information System (EPMIS) (August 8, 2001, 66 FR 41574).

Changes:

System identifier:

Delete entry and replace with ‘A0680-31b AHRC’.

* * * * *

A0680-31b AHRC

System name:

Enlisted Personnel Management Information System (EPMIS).

System location:

Director, Enlisted Personnel Management Directorate, 2461 Eisenhower Avenue, Alexandria, VA 22332-0400.

Portions of the Enlisted Evaluation System is maintained at U.S. Army Enlisted Records and Evaluation Center, 8899 East 56th Street, Indianapolis, IN 46249-5301.

Categories of individuals covered by the system:

Enlisted Active duty, Army National Guard, Army Reserve personnel on active duty. Initial Active duty training personnel undergoing basic training or advanced individual training; former military personnel who are applicants for enlistment in grade E-1 and E-9.

Categories of records in the system:

The Personnel Data Base (PERD TAPDB-AE) contains name, Social Security Number, sex, race, citizenship, religion, marital status, dependents, date and place of birth, residence, assignments, enlistment commitments by military occupational specialty (MOS), civilian acquired skills, advance individual training start and graduation date, aptitude area score, physical profile, ethnic group, grade/date of rank, enlistment and service promotion qualifications, military occupational skill code, education and training, aptitude, separation, retirement, and mailing address.

Recruit Quota system (REQUEST) contains selected information from PERD TAPDB-AE, soldier's education level an school subject, driver's license data, color vision test data, aptitude battery (ASVAB) scores, defense language aptitude battery score, and medical profile data (PULHES). Other information contained within includes type, date, and term of enlistment, primary enlistment option, initial processing and training locations, and dates of training. Finally the system identifies the location military entrance processing station that created the accession record, recruiter identification and recruiting are credit code.

Enlisted Year Management File (RETAIN) contains select information from PERSDB TAPDB-AE, reenlistment reclassification/and Reserve component transfer action, basic active service data, estimated termination of service, reenlistment date, civilian education, career management field, primary military occupational specialty code and date of award, source of new Primary Occupational Specialty Code, training information, status of application, assignment code, date of last status change, current location, reservation control number, security investigation status and reenlistment term.

Authority for maintenance of the system:

10 U.S.C. 3013, Secretary of the Army; Army Regulation 600-8-6, Personnel Accounting and Strength Reporting; and E.O. 9397 (SSN).

Purpose(s):

To accomplish personnel management, strength accounting, and manpower management actions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Social Security Administration to verify Social Security Numbers.

The DoD ‘Blanket Routine Uses’ set forth at the beginning of the Army's compilation of systems of records notices also apply to this system.

Policies and practices for storing, retrieving, accessing, retaining, and disposing of records in the system:

Storage:

Computer magnetic tapes and discs; computer printouts.

Retrievability:

By name of individual and Social Security Number.

Safeguards:

Information is protected by physical security devices, guards, computer hardware and software safeguard features, personnel clearances and unique passwords to PERDB TAPDB-AE. A tiered security system for access to enlisted data provided via Interactive Voice Response Systems based on the sensitivity of the data items provided, encryption of data transmitted via networks, controlled access to operator rooms and controlled output distribution.

Retention and disposal:

Offices having Army-wide responsibility; cut off annually, retain for 1 year in current file area, then retire to Washington National Records Center, destroy 25 years after cut-off. Military strength monitors at installations and major commands, destroy after 2 years.

System manager(s) and address:

Director, Enlisted Personnel Management Directorate, 2461 Eisenhower Avenue, Alexandria, VA 22332-0400.

Notification procedure:

Individuals seeking to determine whether information about themselves is contained in this system should address written inquiries to the Commander, U.S. Army Human Resources Command, Enlisted Personnel Management Directorate, 2461 Eisenhower Avenue, Alexandria, VA 22332-0400.

Individual should provide the full name, Social Security Number, current address, and identify the specific category of record involved.

Record access procedures:

Individuals seeking access to information about themselves contained in this system should address written inquiries to the Commander, U.S. Army Human Resources Command, Enlisted Personnel Management Directorate, 2461 Eisenhower Avenue, Alexandria, VA 22332-0400.

Individual should provide the full name, Social Security Number, current address, and identify the specific category of record involved.

Blanket requests for information from this consolidated system will not be accepted. If awaiting active duty, specify the date thereof; if separated, individual must state date of separation.

Selected data from Personnel Data Base (PERDB-TAPDF-AE) is also accessible to record subjects through an Interactive Voice Response System (IVRS).

Contesting record procedures:

The Army's rules for accessing records, contesting contents and appealing initial agency determinations are contained in Army Regulation 340-21; 32 CFR part 505; or may be obtained from the system manager.

Record source categories:

From the individual, from Army automated systems, Military Entrance Processing Command and Army Education Centers.

Exemptions claimed for the system:

None.

A0690-200 TAPC

System name:

Department of the Army Civilian Personnel Systems (June 25, 2002, 67 FR 42763).

Changes:

System identifier:

Delete entry and replace with ‘A0690-200 DAPE’.

* * * * *

A0690-200 DAPE

System name:

Department of the Army Civilian Personnel Systems.

System location:

Office of Assistant G-1 for Civilian Personnel Policy, ATTN: DAPE-CP-PPD, 2461 Eisenhower Avenue, Alexandria, VA 22331-1300. Derivative Systems are maintained at commands, installations and activities dependent on the type of system maintained. Command-wide systems are the Civilian Personnel Accounting System at U.S. Army Military District of Washington, the U.S. Army Corps of Engineers Management Information System, and the Personnel Management Information System of U.S. Army Materiel Command. Official mailing addresses may be obtained from the Office of Assistant G-1 for Civilian Personnel Policy, ATTN: DAPE-CP-PPD, 2461 Eisenhower Avenue, Alexandria, VA 22331-1300.

Categories of individuals covered by the system:

Current and former Army civilian employees (appropriated and in some instances, non-appropriated funded employees), their dependents, foreign nationals, and military personnel who participate in the incentive awards and training programs.

Categories of records in the system:

This system is comprised of automated and non-automated personnel record, such as academic disciple; career program; citizenship; date of birth; educational level; employee tenure; Federal Employees Group Life Insurance; functional classification; name of employee; nature of action; occupational series; pay basis, pay plan, rate determinant; physical handicap; position occupied and tenure; military status; salary; service computation date; sex; Social Security Number; special program identifier; step or rate; submitting office number; training data, including costs, non-duty hours, on-duty hours, principal purpose, special interest program, date of completion; type of appointment; unit identification code; veterans preference; work schedule; organizational and position data, retention data; adverse action data; Fair Labor Standards Act coverage; cost of living allowances; transportation entitlement; cost codes; leave category; salary history; wage area; position sensitivity; security investigation data; security clearance and access data; performance/suggestion/cash awards; reemployment rights; training agreement; reserve status; vessel operations qualifications; Government driver's license; food handler's permit; intern recruitment and training data; career management data including performance/potential ratings; employee evaluation; qualifications; achievements; dependent data; overseas sponsor information; state address; home address; home telephone number or alternate number, emergency contact and next of kin information; beneficiary information; leave data; foreign language code, mobilization designee tracking. Records are maintained for military personnel participating in department-wide incentive awards and training programs sponsored by operating civilian personnel offices.

Authority for maintenance of the system:

5 U.S.C. 301, Departmental Regulations; 10 U.S.C. 3013, Secretary of the Army; Army Regulation 690-200, General Personnel Provisions; and E.O. 9397 (SSN).

Purpose(s):

Information in this system is used by civilian personnel offices to screen qualifications of employees; determine status, eligibility, and employee's rights, and benefits under pertinent laws and regulations governing Federal employment; compute length of service; compile reports and statistical analyses of civilian work force strength trends, accounting, and composition; and to provide personnel services; and in the event of an emergency or death of the employee to provide notification to the emergency contact.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Department of Labor, Department of Veterans Affairs, Social Security Administration, or a national, State, county, municipal, or other publicly recognized charitable or income security administration agency (e.g., state unemployment compensation agencies), where necessary to adjudicate a claim under Office of Personnel Management's retirement, insurance, or health benefits program or to conduct an analytical study or audit of benefits being paid under such programs.

Office of Federal Employees Group Life Insurance, information necessary to verify election, declination, or waiver or regular and/or optional life insurance coverage or eligibility for payment of a claim for life insurance.

Health insurance carriers contracting with Office of Personnel Management to provide a health benefits plan under the Federal Employees Health Benefits Program, information necessary to identify enrollment in a plan, to verify eligibility for payment of a claim for health benefits, or to carry out the coordination or audit of benefit provisions of such contracts.

Federal, State, or local agencies for determination of an individual's entitlement to benefits in connection with Federal Housing Administration programs.

Officials of labor organizations recognized under 5 U.S.C. Chapter 71 when relevant and necessary to their duties of exclusive representation concerning personnel policies, practices, and matters affecting working conditions.

Public and private organizations, including news media, which grant or publicize awards and/or honors, information on individuals considered/selected for incentive awards and other honors.

The DoD ‘Blanket Routine Uses’ set forth at the beginning of the Army's compilation of systems of records notices also apply to this system.

Policies and practices for storing, retrieving, accessing, retaining, and disposing of records in the system:

Storage:

Paper records in file folders and on electronic storage media.

Retrievability:

By Social Security Number and/or name.

Safeguards:

Computer facilities and terminals are located in restricted areas accessible only to authorized personnel who are properly screened, cleared, and trained. Manual records, microfilm/fiche, and computer printouts are stored in locked rooms or cabinets on military installations or in buildings secured by guards.

Retention and disposal:

These records are retained for varying periods of time. Generally, they are maintained for a minimum of 1 year or until the employee transfers or separates. They may also be retained indefinitely as a basis for longitudinal work history statistical studies.

System manager(s) and address:

Assistant G-1 for Civilian Personnel Policy, ATTN: DAPE-CP-PPD, 2461 Eisenhower Avenue, Alexandria, VA 22331-1300.

Notification procedure:

Individuals seeking to determine whether information about themselves is contained in this system should address written inquiries to the servicing civilian personnel office. Official mailing addresses may be obtained from the Office of Assistant G-1 for Civilian Personnel Policy, ATTN: DAPE-CP-PPD, 2461 Eisenhower Avenue, Alexandria, VA 22331-1300. Written requests must contain the individual's full name, home address, Social Security Number, current or last dates of federal employment, date and place of birth, and must be signed by the individual.

Record access procedures:

Individuals seeking access to information about themselves contained in this system should address written inquiries to the servicing civilian personnel office. Official mailing addresses may be obtained from the Office of Assistant G-1 for Civilian Personnel Policy, ATTN: DAPE-CP-PPD, 2461 Eisenhower Avenue, Alexandria, VA 22331-1300.

Written requests must contain the individual's full name, home address, Social Security Number, current or last dates of federal employment, date and place of birth, and must be signed by the individual.

Contesting record procedures:

The Army's rules for accessing records, and for contesting contents and appealing initial agency determinations are contained in Army Regulation 340-21; 32 CFR part 505; or may be obtained from the system manager.

Record source categories:

From the individual and from the individual's official personnel file.

Exemptions claimed for the system:

None.

[FR Doc. 04-22 Filed 1-5-04; 8:45 am]

BILLING CODE 5001-06-P